DEPARTMENT OF THE INTERIOR

Bureau of Indian Affairs

[256A2100DD/AAKC001030/A0A501010.000000]

Indian Child Welfare Act; Designated Tribal Agents for Service of Notice

AGENCY: Bureau of Indians Affairs, Interior.

ACTION: Notice.

SUMMARY: The regulations implementing the Indian Child Welfare Act (ICWA) provide that federally recognized Indian Tribes may designate an agent other than the Tribal chairman for service of notice of proceedings under the Act. This notice includes the current list of designated Tribal agents for service of notice.

DATES: The notice is effective July 11, 2025 and supersedes the list published on February 28, 2024.

FOR FURTHER INFORMATION CONTACT: Bureau of Indian Affairs, Evangeline M. Campbell, Chief, Division of Human Services, Office of Indian Services, 1849 C Street NW, Mail Stop (MS)-3645-Main Interior Building (MIB), Washington, DC 20240; evangeline.campbell@bia.gov.

SUPPLEMENTARY INFORMATION: The regulations implementing the Indian Child Welfare Act, 25 U.S.C. 1901 et seq., provide that federally recognized Indian Tribes may designate an agent other than the Tribal chairman for service of notice of proceedings under the Act. See 25 CFR 23.12. The Secretary of the Interior is required to update and publish in the Federal Register as necessary the names and addresses of the designated Tribal agents. This notice is published in exercise of authority delegated by the Secretary of the Interior to the Principal Deputy Assistant Secretary—Indian Affairs by 209 DM 8. This notice supersedes the list published in the Federal Register on February 28 (89 FR 14679).

BIA Regional Offices

In any involuntary proceeding in a State court where the court knows or has reason to know that an Indian child is involved, and where the identity and location of the child's parent or Indian custodian or Tribe is known, the party seeking the foster-care placement of, or termination of parental rights to, an Indian child must directly notify the parents, the Indian custodians, and the child's Tribe by registered or certified mail with return receipt requested, of the pending child-custody proceedings and their right of intervention. Copies of these notices must be sent to the appropriate Bureau of Indian Affairs (BIA) Regional Director by registered or certified mail with return receipt requested or by personal delivery. See 25 CFR 23.11. Notice may also be sent via personal service or electronically, but such alternative methods do not replace the requirement for notice to be sent by registered or certified mail with return receipt requested.

If the identity or location of the child's parents, the child's Indian custodian, or the Tribe(s) in which the Indian child is a member or eligible for membership cannot be ascertained, but there is reason to know the child is an Indian child, notice of the child-custody proceeding must be sent to the appropriate BIA Regional Director, available at https://www.bia.gov/regional-offices. See 25 CFR 23.111.

1. Alaska Region

2. Eastern Region

3. Eastern Oklahoma Region

4. Great Plains Region

5. Midwest Region

6. Navajo Region

7. Northwest Region

8. Pacific Region

9. Rocky Mountain Region

10. Southern Plains Region

11. Southwest Region

12. Western Region

BIA Central Office

No notice, except for a final adoption decree, is required to be sent to the BIA Central Office, MS-3645-MIB, 1849 C Street NW, Washington, DC 20240.

List of Designated Tribal Agents by BIA Region

This notice presents the names and addresses of current designated Tribal agents for service of notice and includes each designated Tribal agent received by the Secretary of the Interior prior to the date of this publication. The lists designated Tribal agents by BIA Region and alphabetically by Tribe within each BIA Region.

In addition to the BIA's annual Federal Register publication, the ICWA Designated Agent List will also be available on the Indian Affairs.gov website at https://www.bia.gov/bia/ois/dhs/icwa and will be updated quarterly.

1. Alaska Region

Alaska Regional Director, Bureau of Indian Affairs, Attn: Human Services, 3601 C Street, Ste. 1200 MC-403 Anchorage, AK 99503; Telephone Number: (907) 271-4111.

Tribe | ICWA agent | Mailing address | Phone No. | Fax No. | Email address
Agdaagux Tribe of King Cove | Amanda McAdoo, Family Services Director | Aleutian Pribilof Islands Association Inc., 1131 East International Airport Road, Anchorage, AK 99518-1408 | (907) 276-2700 | (907) 279-4351 | amandam@apiai.org.
Akiachak Native Community | Melanie Fredericks & Nastasia Thompson, ICWA Program Manager, ICWA Advocate III | Association of Village Council Presidents, P.O. Box 219, Bethel, AK 99559 | (907) 543-8691 | (907) 543-7644 | MFredericks@avcp.org.
Akiak Native Community | DoraAnn Kozevnikoff and Olinka Jones, Tribal Administrator, ICWA Director | P.O. Box 52127, Akiak, AK 99552 | (907) 765-7112 | (907) 765-7512 | Akiakicwadept@gmail.com.
Alatna Village | Valeen “Niisha” Walsh & Michelle Peter, Tribal Social Services Manager/ICWA Advocate | Tanana Chiefs Conference, 122 First Avenue, Suite, 600, Fairbanks, AK 99701-4899 | (907) 452-8251 | (907) 459-3984 | Vvleen.walsh@tananachiefs.org.
Algaaciq Native Village (St. Mary's) | Denise Paukan ICWA Coordinator | P.O. Box 48, St. Mary's, AK 99658-0048 | (907) 438-2335 | (907) 438-2227 | algaaciq.icwa@gmail.com.
Allakaket Village | Valeen “Niisha” Walsh & Michelle Peter, Tribal Social Services Manager/ICWA Advocate | Tanana Chiefs Conference,122 First Avenue, Suite 600, Fairbanks, AK 99701-4899 | (907) 452-8251 | (907) 459-3984 | valeen.walsh@tananachiefs.org.
Alutiiq Tribe of Old Harbor | Julie Kaiser, ICWA Coordinator | Kodiak Area Native Association, 3449 E Rezanof Drive, Kodiak, AK 99615-6952 | (907) 486-1395 | (907) 486-1329 | Julie.Kaiser@kodiakhealthcare.org.
Angoon Community Association | Patty Lockhart, ICWA Administrative Assistant | P.O. Box 25500, Juneau, AK 99802-5500 | (907) 463-7126 | (907) 885-0032 | icwainquiries@tlingitandhaida.gov.
Anvik Village | Valeen “Niisha” Walsh & Michelle Peter, Tribal Social Services Manager/ICWA Advocate | Tanana Chiefs Conference, 122 First Avenue, Suite 600, Fairbanks, AK 99701-4899 | (907) 452-8251 | (907) 459-3984 | valeen.walsh@tananachiefs.org.
Arctic Village | Tonya Garnett, ICWA Worker | P.O. Box 22069, Arctic Village, AK 99722 | (907) 587-5523 | (907) 587-5128 | tonya.garnett@arcticvillage.gov.
Asa'carsarmiut Tribe | Evelyn Peterson, Director of Social Services | P.O. Box 32107, Mountain Village, AK 99632-0107 | (907) 591-2209 | (907) 591-2817 | atcicwa@asacarsarmiut.org.
Beaver Village | Valeen “Niisha” Walsh & Michelle Peter, Tribal Social Services Manager/ICWA Advocate | Tanana Chiefs Conference, 122 First Avenue, Suite 600, Fairbanks, AK 99701-4899 | (907) 452-8251 | (907) 459-3984 | valeen.walsh@tananachiefs.org.
Birch Creek Tribe | Valeen “Niisha” Walsh & Michelle Peter, Tribal Social Services Manager/ICWA Advocate | Tanana Chiefs Conference, 122 First Avenue, Suite 600, Fairbanks, AK 99701-4899 | (907) 452-8251 | (907) 459-3984 | valeen.walsh@tananachiefs.org.
Central Council of the Tlingit & Haida Indian Tribes | Patty Lockhart, ICWA Administrative Assistant | P.O. Box 25500, Juneau, AK 99802-5500 | (907) 463-7169 | (907) 885-0032 | icwainquiries@tlingitandhaida.gov.
Chalkyitsik Village | Valeen “Niisha” Walsh & Michelle Peter, Tribal Social Services Manager/ICWA Advocate | Tanana Chiefs Conference, 122 First Avenue, Suite 600, Fairbanks, AK 99701-4899 | (907) 452-8251 | (907) 459-3984 | valeen.walsh@tananachiefs.org.
Cheesh-Na Tribe | Danielle Boston, Tribal Administrator | HC01 Box 217, Gakona, AK 99586 | (907) 822-3503 | (907) 822-5179 | tribaladmin@cheeshna.com.
Chevak Native Village | Melanie Fredericks, ICWA Program Manager | Association of Village Council Presidents, P.O. Box 219, Bethel, AK 99559 | (907) 543-8691 | (907) 543-7644 | icwa2@avcp.org.
Chickaloon Native Village | Lisa Wade, Cheri Ruiz, Vera Spence, Executive Director, Health & Social Services Director, ICWA Program Manager | P.O. Box 1105, Chickaloon, AK 99674-1105 | (907) 745-0704 | (907) 745-0709 | lrwade@chickaloon-nsn.gov.
Chignik Bay Tribal Council | Children's Services Division Manager | Bristol Bay Native Association, P.O. Box 310, Dillingham, AK 99576 | (907) 842-4139 | (907) 842-4106 | BBICWA@bbna.com.
Chignik Lake Village | Children's Services Division Manager | Bristol Bay Native Association, P.O. Box 310, Dillingham, AK 99576 | (907) 842-4139 | (907) 842-4106 | BBICWA@bbna.com.
Chilkat Indian Village (Klukwan) | Deanna Ewing, Social Services Specialist, ICWA Worker | HC 60 Box 2207, Haines, AK 99827 | (907) 767-5505 | (907) 767-5408 | dewing@chilkat-nsn.gov.
Chilkoot Indian Association (Haines) | Patty Lockhart, ICWA Administrative Assistant | Central Council of the Tlingit and Haida Indian Tribes, P.O. Box 25500, Juneau, AK 99802-5500 | (907) 463-7169 | (907) 885-0032 | icwainquiries@tlingitandhaida.gov.
Chinik Eskimo Community (Golovin) | Heather Payenna, Child & Family Services Manager | Kawerak Inc. Children & Family Services, P.O. Box 948, Nome, AK 99762 | (907) 443-4261 | (907) 443-5181 | hpayenna@kawerak.org.
Chuloonawick Native Village | Roberta Murphy, Tribal Administrator | P.O. Box 245 Emmonak, AK 99581 | (907) 949-1345 | (907) 949-1346 | chuloonawicknativevillage@gmail.com.
Circle Native Community | Valeen “Niisha” Walsh & Michelle Peter, Tribal Social Services Manager/ICWA Advocate | Tanana Chiefs Conference, 122 First Avenue, Suite 600, Fairbanks, AK 99701-4899 | (907) 452-8251 | (907) 459-3984 | valeen.walsh@tananachiefs.org.
Craig Tribal Association | Patty Lockhart, ICWA Administrative Assistant | Central Council of the Tlingit and Haida Indian Tribes, P.O. Box 25500, Juneau, AK 99802-5500 | (907) 463-7169 | (907) 885-0032 | icwainquiries@tlingitandhaida.gov.
Curyung Tribal Council | Children's Services Division Manager | Bristol Bay Native Association, P.O. Box 310, Dillingham, AK 99576 | (907) 842-4139 | (907) 842-4106 | BBICWA@bbna.com.
Douglas Indian Association | Alyssa Cadiente-Laiti-Blattner, ICWA Social Services Program Coordinator | 811 West 12th Street, Juneau, AK 99801 | (907) 364-2916 | (907) 364-2917 | ablattner@diataku.com.
Egegik Village | Children's Services Division Manager | Bristol Bay Native Association, P.O. Box 310, Dillingham, AK 99576 | (907) 842-4139 | (907) 842-4106 | BBICWA@bbna.com.
Eklutna Native Village | Dawn Harris, ICWA Worker | P.O. Box 670666 Chugiak, AK 99567-0666 | (907) 688-6020 | (907) 688-6021 | dharris@eklutna.org.
Emmonak Village | Melanie Fredericks, ICWA Program Manager | Association of Village Council Presidents, P.O. Box 219, Bethel, AK 99559-0218 | (907) 543-8691 | (907) 543-7644 | icwa2@avcp.org.
Evansville Village (aka Bettles Field) | Valeen “Niisha” Walsh & Michelle Peter, Tribal Social Services Manager/ICWA Advocate | Tanana Chiefs Conference, 122 First Avenue, Suite 600, Fairbanks, AK 99701-4899 | (907) 452-8251 | (907) 459-3984 | valeen.walsh@tananachiefs.org.
Gulkana Village Council | Rachel Stratton Morse, Family Services Coordinator | P.O. Box 254, Gakona, AK 99586-0254 | (907) 822-5363 | (907) 822-3976 | icwa@gulkanacouncil.org.
Healy Lake Village | Valeen “Niisha” Walsh & Michelle Peter, Tribal Social Services Manager/ICWA Advocate | Tanana Chiefs Conference, 122 First Avenue, Suite 600, Fairbanks, AK 99701-4899 | (907) 452-8251 | (907) 459-3984 | valeen.walsh@tananachiefs.org.
Holy Cross Tribe | Valeen “Niisha” Walsh & Michelle Peter, Tribal Social Services Manager/ICWA Advocate | Tanana Chiefs Conference, 122 First Avenue Suite 600, Fairbanks, AK 99701-4899 | (907) 452-8251 | (907) 459-3984 | valeen.walsh@tananachiefs.org.
Hoonah Indian Association | Akasha Moulton, Human Services Director/ICWA Rep. | P.O. Box 602, Hoonah, AK 99829-0602 | (907) 802-3195 | (907) 945-3545 | skasha.moulton@hiatribe.org.
Hughes Village | Valeen “Niisha” Walsh & Michelle Peter, Tribal Social Services Manager/ICWA Advocate | Tanana Chiefs Conference, 122 First Avenue, Suite 600, Fairbanks, AK 99701-4899 | (907) 452-8251 | (907) 459-3984 | valeen.walsh@tananachiefs.org.
Huslia Village | Valeen “Niisha” Walsh & Michelle Peter, Tribal Social Services Manager/ICWA Advocate | Tanana Chiefs Conference, 122 First Avenue, Suite 600, Fairbanks, AK 99701-4899 | (907) 452-8251 | (907) 459-3984 | valeen.walsh@tananachiefs.org.
Hydaburg Cooperative Association | Patty Lockhart, ICWA Administrative Assistant | Central Council of the Tlingit & Haida Indian Tribes, P.O. Box 25500, Juneau, AK 99802-5500 | (907) 463-7169 | (907) 885-0032 | icwainquiries@tlingitandhaida.gov.
Igiugig Village | Alicia Tinney, Social Services Director | 4198 Main Street, Igiugig, AK 99615 | (907) 533-3211 | (907) 533-3217 | socialservices@igiugig.gov.
Inupiat Community of the Arctic Slope | Nicole Watson, Social Services Manager | P.O. Box 934, Barrow, AK 99723-0934 | (907) 852-4146 |  | Nicole.Watson@icas-nsn.gov.
Iqugmiut Traditional Council | Melanie Fredericks, ICWA Program Manager | Association of Village Council Presidents, P.O. Box 219, Bethel, AK 99559 | (907) 543-8691 | (907) 543-7644 | MFredericks@avcp.org.
Ivanof Bay Tribe | Children's Services Division Manager | Bristol Bay Native Association, P.O. Box 310, Dillingham, AK 99576 | (907) 842-4139 | (907) 842-4106 | BBICWA@bbna.com.
Kaguyak Village | Alyssa Brenteson, Tribal Manager | P.O. Box 5078, Akhiok, AK 99615-5078 | (907) 836-2231 |  | kaguyak.tribal.council@gmail.com.
Kaktovik Village (aka Barter Island) | Darlene Wagner, Social Services Director | Arctic Slope Native Association, P.O. Box 1232, Utqiagvik, AK 99723-1232 | (907) 852-9376 | (907) 852-2716 | Darlene.Wagner@arcticslope.org.
Kasigluk Traditional Elders Council | Esai Twichell, Jr., Tribal Administrator | P.O. Box 19, Kasigluk, AK 99609-0019 | (907) 477-6405 | (907) 477-6212 | Kasigluk.admin@gmail.com.
Kenaitze Indian Tribe | Maria Guerra, Family & Social Services Director | P.O. Box 988, Kenai, AK 99611-0988 | (907) 335-7613 | (907) 202-8359 | familyservicesdepartment@kenaitze.org.
Ketchikan Indian Community | Douglas J. Gass, Case Management Supervisor | 201 Deermount Street, Ketchikan, AK 99901 | (907) 228-9294 | (800) 378-0469 | dgass@kictribe.org.
King Island Native Community | Heather Payenna, Child & Family Services Manager | Kawerak Inc. Children & Family Services, P.O. Box 948, Nome, AK 99762 | (907) 443-4261 | (907) 443-5181 | hpayenna@kawerak.org.
King Salmon Tribe | Children's Services Division Manager | Bristol Bay Native Association, P.O. Box 310, Dillingham, AK 99576 | (907) 842-4139 | (907) 842-4106 | BBICWA@bbna.com.
Klawock Cooperative Association | Patty Lockhart, ICWA Administrative Assistant | Central Council of the Tlingit and Haida Indian Tribes, P.O. Box 25500, Juneau, AK 99802-5500 | (907) 463-7169 | (907) 885-0032 | icwainquiries@tlingitandhaida.gov.
Knik Tribe | Geraldine Nicoli-Ayonayon, ICWA Manager | P.O. Box 871565, Wasilla, AK 99687-1565 | (907) 373-7991 | (907) 373-2153 | gnayonayon@kniktribe.org.
Kokhanok Village | Mary Andrew, ICWA Worker | P.O. Box 1007, Kokhanok, AK 99606 | (907) 282-2224 | (907) 282-2221 | icwa@kokhanok.com.
Koyukuk Native Village | Valeen “Niisha” Walsh & Michelle Peter, Tribal Social Services Manager/ICWA Advocate | Tanana Chiefs Conference, 122 First Avenue, Suite 600, Fairbanks, AK 99701-4899 | (907) 452-8251 | (907) 459-3984 | valeen.walsh@tananachiefs.org.
Levelock Village | Children's Services Division Manager | Bristol Bay Native Association, P.O. Box 310, Dillingham, AK 99576 | (907) 842-4139 | (907) 842-4106 | BBICWA@bbna.com.
Lime Village | Melanie Fredericks, ICWA Program Manager | Association of Village Council Presidents, P.O. Box 219, Bethel, AK 99559 | (907) 543-8691 | (907) 543-7644 | icwa2@avcp.org.
Louden Tribe (previously listed as Galena Village (aka Louden Village)) | Bethany Green, ICWA Program Manager | P.O. Box 244, Galena, AK 99741-0244 | (907) 656-7140 |  | bethany.green@loudentribe.com.
Manley Hot Springs Village | Valeen “Niisha” Walsh & Michelle Peter, Tribal Social Services Manager/ICWA Advocate | Tanana Chiefs Conference, 122 First Avenue, Suite 600, Fairbanks, AK 99701-4899 | (907) 452-8251 | (907) 459-3984 | valeen.walsh@tananachiefs.org.
Manokotak Village | Children's Services Division Manager | Bristol Bay Native Association, P.O. Box 310, Dillingham, AK 99576 | (907) 842-4139 | (907) 842-4106 | BBICWA@bbna.com.
McGrath Native Village | Valeen “Niisha” Walsh & Michelle Peter, Tribal Social Services Manager/ICWA Advocate | Tanana Chiefs Conference, 122 First Avenue, Suite 600, Fairbanks, AK 99701-4899 | (907) 452-8251 | (907) 459-3984 | valeen.walsh@tananachiefs.org.
Mentasta Traditional Council | Honalee Sanford, Tribal Administrator | P.O. Box 6019, Mentasta Lake, AK 99780-6019 | (907) 291-2409 | (907) 291-2344 | 907mlv99780ta@gmail.com.
Naknek Native Village | Children's Services Division Manager | Bristol Bay Native Association, P.O. Box 310, Dillingham, AK 99576 | (907) 842-4139 | (907) 842-4106 | bbicwa@bbna.com.
Native Village of Afognak | Denise Malutin, ICWA Program Manager | 115 Mill Bay Road, Kodiak, AK 99615-6332 | (907) 486-6357 | (907) 486-6529 | denise@afognak.org.
Native Village of Akhiok | Julie Kaiser, Arwen Botz, Mya Contreras, ICWA Coordinator, Vice President Community Services, Child and Family Services Manager | Kodiak Area Native Association, 3449 E Rezanof Drive, Kodiak, AK 99615-6952 | (907) 486-9893 | (907) 486-1329 | Julie.kaiser@kodiakhealthcare.org.
Native Village of Akutan | Amanda McAdoo, Family Services Coordinator | Aleutian Pribilof Islands Association Inc., 1131 E International Airport Road, Anchorage, AK 99518-1408 | (907) 276-2700 | (907) 279-4351 | amandam@apiai.org.
Native Village of Aleknagik | Children's Services Division Manager | Bristol Bay Native Association, P.O. Box 310, Dillingham, AK 99576 | (907) 842-4139 | (907) 842-4106 | BBICWA@bbna.com.
Native Village of Ambler | Jackie Hill, Director Family Services | Maniilaq Association Family Services, P.O. Box 256, Kotzebue, AK 99752-0256 | (907) 442-7879 | (907) 442-7885 | jackie.hill@maniilaq.org.
Native Village of Atka | Amanda McAdoo, Family Services Coordinator | Aleutian Pribilof Islands Association Inc., 1131 E International Airport Road, Anchorage, AK 99518-1408 | (907) 276-2700 | (907) 279-4351 | amandam@apiai.org.
Native Village of Atqasuk | Darlene Wagner, Social Services Director | Arctic Slope Native Association, P.O. Box 1232, Utqiagvik, AK 99723-1232 | (907) 852-9376 | (907) 852-2716 | Darlene.Wagner@arcticslope.org.
Native Village of Barrow Inupiat Traditional Government | Fannie Suvlu, Executive Director | P.O. Box 1130, Utqiagvik, AK 99723 | (907) 852-4411 | (907) 852-8844 | Fannie.suvlu@nvb-nsn.gov.
Native Village of Belkofski | Amanda McAdoo, Family Services Coordinator | Aleutian Pribilof Islands Association Inc., 1131 E International Airport Road, Anchorage, AK 99518-1408 | (907) 276-2700 | (907) 279-4351 | amandam@apiai.org.
Native Village of Brevig Mission | Heather Payenna, Child & Family Services Manager | Kawerak Inc. Children & Family Services, P.O. Box 948, Nome, AK 99762 | (907) 443-4261 | (907) 443-5181 | hpayenna@kawerak.org.
Native Village of Buckland | Charlene Sampson, Tribal Administrator | P.O. Box 67, Buckland, AK 99727-0067 | (907) 494-5482 | (907) 494-2192 | tribeadmin@nunachiak.org.
Native Village of Cantwell | Michelle LeBlanc, ICWA Advocate | Copper River Native Association, P.O. Box 383, Glennallen, AK 99588 | (907) 822-8480 | (907) 822-3225 | mleblanc@crnative.org.
Native Village of Chenega (aka Chanega) | Megan Bergene, Tribal Administrator | 3000 C Street, Suite 301, Anchorage, AK 99503 | (907) 569-6949 | (907) 569-6939 | megan.green@chenegaira.com.
Native Village of Chignik Lagoon | Children's Services Division Manager | Bristol Bay Native Association, P.O. Box 310, Dillingham, AK 99576 | (907) 842-4139 | (907) 842-4106 | BBICWA@bbna.com.
Native Village of Chitina | Dean Barlip & Selah Ketcham, Tribal Administrator & ICWA Worker | P.O. Box 31, Chitina, AK 99566 | (907) 823-2215 | (907) 823-2285 | sketcham@tsedina.org.
Native Village of Chuathbaluk (Russian Mission, Kuskokwim) | Melanie Fredericks, ICWA Program Manager | Association of Village Council Presidents, P.O. Box 219, Bethel, AK 99559 | (907) 543-8691 | (907) 543-7644 | icwa2@avcp.org.
Native Village of Council | Rhonda West, Tribal Coordinator | P.O. Box 2050, Nome, AK 99762-2050 | (907) 443-7649 | (907) 443-5965 | tc.cou@kawerak.org.
Native Village of Deering | Jackie Hill, Director Family Services | Maniilaq Association Family Services, P.O. Box 256, Kotzebue, AK 99752-0256 | (907) 442-7879 | (907) 442-7885 | jackie.hill@maniilaq.org.
Native Village of Diomede (aka Inalik) | Heather Payenna, Child & Family Services Manager | Kawerak Inc. Children & Family Services, P.O. Box 948, Nome, AK 99762 | (907) 443-4261 | (907) 443-5181 | hpayenna@kawerak.org.
Native Village of Eagle | Valeen “Niisha” Walsh & Michelle Peter, Tribal Social Services Manager/ICWA Advocate | Tanana Chiefs Conference,122 First Avenue, Suite 600, Fairbanks, AK 99701-4899 | (907) 452-8251 | (907) 459-3984 | valeen.walsh@tananachiefs.org.
Native Village of Eek | Melanie Fredericks, ICWA Program Manager | Association of Village Council Presidents, P.O. Box 219, Bethel, AK 99559 | (907) 543-8691 | (907) 543-7644 | icwa2@avcp.org.
Native Village of Ekuk | Children's Services Division Manager | Bristol Bay Native Association, P.O. Box 310, Dillingham, AK 99576 | (907) 842-4139 | (907) 842-4106 | BBICWA@bbna.com.
Native Village of Ekwok | Children's Services Division Manager | Bristol Bay Native Association, P.O. Box 310, Dillingham, AK 99576 | (907) 842-4139 | (907) 842-4106 | BBICWA@bbna.com.
Native Village of Elim | Heather Payenna, Child & Family Services Manager | Kawerak Inc. Children & Family Services, P.O. Box 948, Nome, AK 99762 | (907) 443-4261 | (907) 443-5181 | hpayenna@kawerak.org.
Native Village of Eyak (Cordova) | Sarah Trumblee, ICWA Worker | P.O. Box 1388, Cordova, AK 99574-1388 | (907) 424-2227 | (907) 424-7809 | icwa@eyak-nsn.gov.
Native Village of False Pass | Amanda McAdoo, Family Services Coordinator | Aleutian Pribilof Islands Association Inc., 1131 E International Airport Road, Anchorage, AK 99518-1408 | (907) 276-2700 | (907) 279-4351 | amandam@apiai.org.
Native Village of Fort Yukon | Valeen “Niisha” Walsh & Michelle Peter, Tribal Social Services Manager/ICWA Advocate | Tanana Chiefs Conference, 122 First Avenue, Suite 600, Fairbanks, AK 99701-4899 | (907) 452-8251 | (907) 459-3984 | valeen.walsh@tananachiefs.org.
Native Village of Gakona | Charlene Nollner, Tribal Administrator | P.O. Box 102, Gakona, AK 99586-0102 | (907) 822-5777 | (907) 822-5997 | gakonaadmin@cvinternet.net.
Native Village of Gambell | Heather Payenna, Child & Family Services Manager | Kawerak Inc. Children & Family Services, P.O. Box 948 Nome, AK 99762 | (907) 443-4261 | (907) 443-5181 | hpayenna@kawerak.org.
Native Village of Georgetown | Melanie Fredericks, ICWA Program Manager | Association of Village Council Presidents, P.O. Box 219, Bethel, AK 99559 | (907) 543-8691 | (907) 543-7644 | MFredericks@avcp.org.
Native Village of Goodnews Bay | Melanie Fredericks, ICWA Program Manager | Association of Village Council Presidents, P.O. Box 219, Bethel, AK 99559 | (907) 543-8691 | (907) 543-7644 | icwa2@avcp.org.
Native Village of Hamilton | Melanie Fredericks, ICWA Program Manager | Association of Village Council Presidents, P.O. Box 219, Bethel, AK 99559 | (907) 543-8691 | (907) 543-7644 | icwa2@avcp.org.
Native Village of Hooper Bay | Melanie Fredericks, ICWA Program Manager | Association of Village Council Presidents, P.O. Box 219, Bethel, AK 99559 | (907) 543-8691 | (907) 543-7644 | icwa2@avcp.org.
Native Village of Kanatak | Children's Services Division Manager | Bristol Bay Native Association, P.O. Box 310, Dillingham, AK 99576 | (907) 842-4139 | (907) 842-4106 | BBICWA@bbna.com.
Native Village of Karluk | Kristeen Reft, ICWA Worker | P.O. Box 22, Karluk, AK 99608 | (907) 241-2238 |  | programassistant@karluktribal.org.
Native Village of Kiana | Jackie Hill, Director Family Services | Maniilaq Association Family Services, P.O. Box 256, Kotzebue, AK 99752-0256 | (907) 442-7879 | (907) 442-7885 | jackie.hill@maniilaq.org.
Native Village of Kipnuk | Melanie Fredericks, ICWA Program Manager | Association of Village Council Presidents, P.O. Box 219, Bethel, AK 99559 | (907) 543-8691 | (907) 543-7644 | icwa2@avcp.org.
Native Village of Kivalina | Jackie Hill, Director Family Services | Maniilaq Association Family Services, P.O. Box 256, Kotzebue, AK 99752-0256 | (907) 442-7879 | (907) 442-7885 | jackie.hill@maniilaq.org.
Native Village of Kluti Kaah (aka Copper Center) | Sarah White, ICWA Coordinator | P.O. Box 68, Copper Center, AK 99573-0068 | (907) 822-5541 | (907) 822-5130 | nvkkicwa@outlook.com.
Native Village of Kobuk | Jackie Hill, Director Family Services | Maniilaq Association Family Services, P.O. Box 256, Kotzebue, AK 99752-0256 | (907) 442-7879 | (907) 442-7885 | jackie.hill@maniilaq.org.
Native Village of Kongiganak | Minnie Nicholas, ICWA Worker | P.O. Box 5069, Kongiganak, AK 99545-5069 | (907) 557-2152 | (907) 557-5224 | Kong.icwa@gmail.com.
Native Village of Kotzebue | Antoinette Edenshaw, Tribal Family Services Director | P.O. Box 296, Kotzebue, AK 99752-0296 | (907) 442-3467 | (907) 442-2162 | antoinette@qira.org.
Native Village of Koyuk | Heather Payenna, Child & Family Services Manager | Kawerak Inc. Children & Family Services, P.O. Box 948, Nome, AK 99762 | (907) 443-4261 | (907) 443-5181 | hpayenna@kawerak.org.
Native Village of Kwigillingok | Andrew Beaver, ICWA Program Director | P.O. Box 90, Kwigillingok, AK 99622-0090 | (907) 588-8144 | (907) 588-8429 | icwa@kwigtribe.org.
Native Village of Kwinhagak (aka Quinhagak) | Melanie Fredericks, ICWA Program Manager | Association of Village Council Presidents, P.O. Box 219, Bethel, AK 99559 | (907) 543-8691 | (907) 543-7644 | icwa2@avcp.org.
Native Village of Larsen Bay | Julie Kaiser, ICWA Coordinator | Kodiak Area Native Association, 3449 E Rezanof Drive, Kodiak, AK 99615-6952 | (907) 486-1395 | (907) 486-1329 | Julie.kaiser@kodiakhealthcare.org.
Native Village of Marshall (aka Fortuna Ledge) | Melanie Fredericks, ICWA Program Manager | Association of Village Council Presidents, P.O. Box 219, Bethel, AK 99559 | (907) 543-8691 | (907) 543-7644 | icwa2@avcp.org.
Native Village of Mary's Igloo | Heather Payenna, Child & Family Services Manager | Kawerak Inc. Children & Family Services, P.O. Box 948, Nome, AK 99762 | (907) 443-4261 | (907) 443-5181 | hpayenna@kawerak.org.
Native Village of Mekoryuk | Melanie Shavings, ICWA Coordinator | P.O. Box 66, Mekoryuk, AK 99630-0066 | (907) 827-8827 | (907) 827-8133 | melanie.s@mekoryuktc.org.
Native Village of Minto | Valeen “Niisha” Walsh & Michelle Peter, Tribal Social Services Manager/ICWA Advocate | Tanana Chiefs Conference, 122 First Avenue, Suite 600, Fairbanks, AK 99701-4899 | (907) 452-8251 | (907) 459-3984 | valeen.walsh@tananachiefs.org.
Native Village of Nanwalek (aka English Bay) | Priscilla Evans, ICWA Coordinator | P.O. Box 8028, Nanwalek, AK 99603-8028 | (907) 281-2284
Native Village of Napaimute | Melanie Fredericks, ICWA Program Manager | Association of Village Council Presidents, P.O. Box 219, Bethel, AK 99559 | (907) 543-8691 | (907) 543-7644 | icwa2@avcp.org.
Native Village of Napakiak | Melanie Fredericks, ICWA Program Manager | Association of Village Council Presidents, P.O. Box 219, Bethel, AK 99559 | (907) 543-8691 | (907) 543-7644 | icwa2@avcp.org.
Native Village of Napaskiak | Melanie Fredericks, ICWA Program Manager | Association of Village Council Presidents, P.O. Box 219, Bethel, AK 99559 | (907) 543-8691 | (907) 543-7644 | icwa2@avcp.org.
Native Village of Nelson Lagoon | Amanda McAdoo, Family Services Coordinator | Aleutian Pribilof Islands Association Inc., 1131 E International Airport Road, Anchorage, AK 99518-1408 | (907) 276-2700 | (907) 279-4351 | amandam@apiai.org.
Native Village of Nightmute | Melanie Fredericks, ICWA Program Manager | Association of Village Council Presidents, P.O. Box 219, Bethel, AK 99559 | (907) 543-8691 | (907) 543-7644 | icwa2@avcp.org.
Native Village of Nikolski | Amanda McAdoo, Family Services Coordinator | Aleutian Pribilof Islands Association Inc., 1131 E International Airport Road, Anchorage, AK 99518-1408 | (907) 276-2700 | (907) 279-4351 | amandam@apiai.org.
Native Village of Noatak | Benjamin P. Arnold, ICWA Coordinator | P.O. Box 89, Noatak, AK 99761 | (907) 485-2030 | (907) 485-2500 | icwa@nautaaq.org.
Native Village of Nuiqsut (aka Nooiksut) | Darlene Wagner, Social Services Director | Arctic Slope Native Association, P.O. Box 1232, Utqiagvik, AK 99723-1232 | (907) 852-9376 | (907) 852-2716 | Darlene.Wagner@arcticslope.org.
Native Village of Nunam Iqua | Melanie Fredericks, ICWA Program Manager | Association of Village Council Presidents, P.O. Box 219, Bethel, AK 99559 | (907) 543-8691 | (907) 543-7644 | icwa2@avcp.org.
Native Village of Nunapitchuk | Eli J. Wassillie, Tribal Administrator | P.O. Box 130, Nunapitchuk, AK 99641-0104 | (907) 527-5705 | (907) 527-5711 | tribaladmin@yupik.org.
Native Village of Ouzinkie | Julie Kaiser, ICWA Coordinator | Kodiak Area Native Association, 3449 E Rezanof Drive, Kodiak, AK 99615-6952 | (907) 486-1395 | (907) 486-1329 | Julie.Kaiser@kodiakhealthcare.org.
Native Village of Paimiut | Children's Services Division Manager | Bristol Bay Native Association, P.O. Box 310, Dillingham, AK 99576 | (907) 842-4139 | (907) 842-5257 | bbicwa@bbna.com.
Native Village of Perryville | Children's Services Division Manager | Bristol Bay Native Association, P.O. Box 310, Dillingham, AK 99576 | (907) 842-4139 | (907) 842-4106 | BBICWA@bbna.com.
Native Village of Pilot Point | Children's Services Division Manager | Bristol Bay Native Association, P.O. Box 310, Dillingham, AK 99576 | (907) 842-4139 | (907) 842-4106 | BBICWA@bbna.com.
Native Village of Point Hope | Amy Stone, ICWA Case Worker | P.O. Box 109, Point Hope, AK 99766-0109 | (907) 368-3122 | (907) 368-2332 | family.caseworker@tikigaq.com.
Native Village of Point Lay | Nicole Kimberly Watson, Social Services Manager | Inupiat Community of the Arctic Slope, P.O. Box 934, Barrow, AK 99723-0934 | (907) 852-8146 |  | Nicole.Watson@icas-nsn.gov.
Native Village of Port Graham | Patrick Norman, Chief & ICWA Worker | P.O. Box 5510, Port Graham, AK 99603-5510 | (907) 284-3023 | (907) 284-2222 | pat@portgraham.org.
Native Village of Port Heiden | Gerda Kosbruk, Tribal Administrator | 2200 James Street, Port Heiden, AK 99549 | (907) 837-2296 | (907) 837-2297 | gerdak@portheidenalaska.com.
Native Village of Port Lions | Jack M. Harrison, ICWA Worker | P.O. Box 69, Port Lions, AK 99550-0069 | (907) 454-2234 | (907) 454-2434 | familyservices@portlionstribe.org.
Native Village of Ruby | Valeen “Niisha” Walsh & Michelle Peter, Tribal Social Services Manager/ICWA Advocate | Tanana Chiefs Conference, 122 First Avenue, Suite 600, Fairbanks, AK 99701-4899 | (907) 452-8251 | (907) 459-3984 | valeen.walsh@tananachiefs.org.
Native Village of Saint Michael | Heather Payenna, Child & Family Services Manager | Kawerak Inc. Children & Family Services, P.O. Box 948, Nome, AK 99762 | (907) 443-4261 | (907) 443-5181 | hpayenna@kawerak.org.
Native Village of Savoonga | Heather Payenna. Child & Family Services Manager | Kawerak Inc. Children & Family Services, P.O. Box 948, Nome, AK 99762 | (907) 443-4261 | (907) 443-5181 | hpayenna@kawerak.org.
Native Village of Scammon Bay | Melanie Fredericks. ICWA Program Manager | Association of Village Council Presidents, P.O. Box 219, Bethel, AK 99559 | (907) 543-8691 | (907) 543-7644 | icwa2@avcp.org.
Native Village of Selawik | Jackie Hill, Director Family Services | Maniilaq Association Family Services, P.O. Box 256, Kotzebue, AK 99752-0256 | (907) 442-7879 | (907) 442-7885 | jackie.hill@maniilaq.org.
Native Village of Shaktoolik | Heather Payenna, Child & Family Services Manager | Kawerak Inc. Children & Family Services, P.O. Box 948, Nome, AK 99762 | (907) 443-4261 | (907) 443-5181 | hpayenna@kawerak.org.
Native Village of Shishmaref | Heather Payenna, Child & Family Services Manager | Kawerak Inc. Children & Family Services, P.O. Box 948, Nome, AK 99762 | (907) 443-4261 | (907) 443-5181 | hpayenna@kawerak.org.
Native Village of Shungnak | Jackie Hill, Director, Family Services | Maniilaq Association Family Services, P.O. Box 256, Kotzebue, AK 99752-0256 | (907) 442-7879 | (907) 442-7885 | jackie.hill@maniilaq.org.
Native Village of Stevens | Valeen “Niisha” Walsh & Michelle Peter, Tribal Social Services Manager/ICWA Advocate | Tanana Chiefs Conference, 122 First Avenue, Suite 600, Fairbanks, AK 99701-4899 | (907) 452-8251 | (907) 459-3984 | Valeen.walsh@tananachiefs.org.
Native Village of Tanacross | Valeen “Niisha” Walsh & Michelle Peter, Tribal Social Services Manager/ICWA Advocate | Tanana Chiefs Conference, 122 First Avenue, Suite 600, Fairbanks, AK 99701-4899 | (907) 452-8251 | (907) 459-3984 | Valeen.walsh@tananachiefs.org.
Native Village of Tanana | Cynthia Johnson, Tribal Youth & Family Services | P.O. Box 130, Tanana, AK 99777-0130 | (907) 336-1067 |  | tanana.tfys@tananatribe.org.
Native Village of Tatitlek | Gwen Vlasoff. ICWA Coordinator | P.O. Box 171, Tatitlek, AK 99677 | (907) 325-2311 | (907) 325-2289 | gwen@tatitlek.com.
Native Village of Tazlina | Donna Renard, ICWA Coordinator | P.O. Box 87, Glennallen, AK 99588 | (907) 822-4375 | (907) 822-5865 | nvtsocialservices2024@gmail.com.
Native Village of Teller | Heather Payenna, CFS Manager | Kawerak Inc. Children & Family Services, P.O. Box 948, Nome, AK 99762 | (907) 443-4261 | (907) 443-4601 | hpayenna@kawerak.org.
Native Village of Tetlin | Valeen “Niisha” Walsh & Michelle Peter, Tribal Social Services Manager/ICWA Advocate | Tanana Chiefs Conference, 122 First Avenue, Suite 600, Fairbanks, AK 99701-4899 | (907) 452-8251 | (907) 459-3984 | valeen.walsh@tananachiefs.org.
Native Village of Tuntutuliak | Melanie Fredericks, ICWA Program Manager | Association of Village Council Presidents, P.O. Box 219, Bethel, AK 99559 | (907) 543-8691 | (907) 543-7644 | icwa2@avcp.org.
Native Village of Tununak | Melanie Fredericks, ICWA Program Manager | Association of Village Council Presidents, P.O. Box 219, Bethel, AK 99559 | (907) 543-8691 | (907) 543-7644 | icwa2@avcp.org.
Native Village of Tyonek | Crystal Standifer, Tribal Administrator | P.O. Box 82009, Tyonek, AK 99682-0009 | (907) 583-2111 | (907) 583-2219 | crystals.nvtyonek@gmail.com.
Native Village of Unalakleet | Frank Katchatag, President | P.O. Box 357, Unalakleet, AK 99684 | (907) 615-4611 | (907) 615-4605 | tfc.unk@unkira.org.
Native Village of Unga | Amanda McAdoo, Family Services Administrator | Aleutian Pribilof Islands Association Inc., 1131 E International Airport Road, Anchorage, AK 99518-1408 | (907) 276-2700 | (907) 279-4351 | amandam@apiai.org.
Native Village of Venetie Tribal Government (Arctic Village and Village of Venetie) | Tonya Garnette, ICWA Worker | P.O. Box 22069, Arctic Village, AK 99722 | (907) 587-5523 |  | tonya.garnett@arcticvillage.gov.
Native Village of Wales | Heather Payenna, Child & Family Services Manager | Kawerak Inc. Children & Family Services, P.O. Box 948, Nome, AK 99762 | (907) 443-4261 | (907) 443-5181 | hpayenna@kawerak.org.
Native Village of White Mountain | Heather Payenna, Child & Family Services Manager | Kawerak Inc. Children & Family Services, P.O. Box 948, Nome, AK 99762 | (907) 443-4261 | (907) 443-5181 | hpayenna@kawerak.org.
Nenana Native Association | Valeen “Niisha” Walsh & Michelle Peter, Tribal Social Services Manager/ICWA Advocate | Tanana Chiefs Conference, 122 First Avenue, Suite 600, Fairbanks, AK 99701-4899 | (907) 452-8251 | (907) 459-3984 | valeen.walsh@tananachiefs.org.
New Koliganek Village Council | Children's Services Division Manager | Bristol Bay Native Association, P.O. Box 310 Dillingham, AK 99576 | (907) 842-4139 | (907) 842-4106 | BBICWA@bbna.com.
New Stuyahok Village | Children's Services Division Manager | Bristol Bay Native Association, P.O. Box 310, Dillingham, AK 99576 | (907) 842-4139 | (907) 842-4106 | BBICWA@bbna.com.
Newhalen Village | Maxine Wassillie, ICWA Worker | P.O. Box 207,100 Power Lane Lane Driv,e Newhalen, AK 99606-0207 | (907) 571-1410 | (907) 571-1537 | maxinewassillie@newhalentribal.com.
Newtok Village | Andrew John, Tribal Administrator | P.O. Box 5596, Newtok, AK 99559-5596 | (907) 237-2202 | (907) 237-2210 | wwt10nnc@gmail.com.
Nikolai Village | Valeen “Niisha” Walsh & Michelle Peter. Tribal Social Services Manager/IWCA Advocate | Tanana Chiefs Conference, 122 First Avenue, Suite 600, Fairbanks, AK 99701-4899 | (907) 452-8251 | (907) 459-3984 | valeen.walsh@tananachiefs.org.
Ninilchik Village | Elise Weber, ICWA Specialist | P.O. Box 39444, Ninilchik, AK 99639-0444 | (907) 206-2740 | (907) 567-3354 | eweber@ninilchiktribe-nsn.gov.
Nome Eskimo Community | Lola Tobuk, Director, Family Services | 101 W Benson Blvd, Suite 203, Anchorage, AK 99503 | (907) 339-1540 | (907) 222-2996 | lola.tobuk@necalaska.org.
Nondalton Village | Fawn Silas, Tribal Administrator | P.O. Box 49, Nondalton, AK 99640 | (907) 294-2257 | (907) 294-2271 | ntcssicwa@gmail.com.
Noorvik Native Community | Jackie Hill, Director, Family Services | Maniilaq Association Family Services, P.O. Box 256, Kotzebue, AK 99752-0256 | (907) 442-7879 | (907) 442-7885 | jackie.hill@maniilaq.org.
Northway Village | Mariah Albert, ICWA Worker | P.O. Box 516, Northway, AK 99764 | (907) 778-2311 | (907) 778-2220 | icwa@aptalaska.net.
Nulato Village | Valeen “Niisha” Walsh and Michelle Peter Valeen “Niisha” Walsh, Tribal Social Services Manager Michelle Peter, ICWA Advocate | Tanana Chiefs Conference, 122 1st Avenue, Suite 600, Fairbanks, AK 99701 | (907) 452-8251 | (907) 459-3984 | valeen.walsh@tananachiefs.org.
Nunakauyarmiut Tribe | Melanie Fredericks, ICWA Program Manager | Association of Village Council Presidents, P.O. Box 219, Bethel, AK 99559 | (907) 543-8691 | (907) 543-7644 | icwa2@avcp.org.
Organized Village of Grayling (aka Holikachuk) | Valeen “Niisha” Walsh & Michelle Peter, Tribal Social Services Manager/ICWA Advocate | Tanana Chiefs Conference, 122 First Avenue, Suite 600, Fairbanks, AK 99701-4899 | (907) 452-8251 | (907) 459-3984 | valeen.walsh@tananachiefs.org.
Organized Village of Kake | Denelle “Nellie” Puckett, Social Services Director | P.O. Box 316, Kake, AK 99830-0316 | (907) 785-6471 | (907) 785-4902 | icwa@kake-nsn.gov.
Organized Village of Kasaan | Patty Lockhart, ICWA Administrative Assistant | Central Council of the Tlingit and Haida Indian Tribes, P.O. Box 25500, Juneau, AK 99802-5500 | (907) 463-7169 | (907) 885-0032 | icwainquiries@tlingitandhaida.gov.
Organized Village of Kwethluk | Melanie Fredericks, ICWA Program Manager | Association of Village Council Presidents, P.O. Box 219, Bethel, AK 99559 | (907) 543-8691 | (907) 543-7644 | MFredericks@avcp.org.
Organized Village of Saxman | Patty Lockhart, ICWA Administrative Assistant | Central Council of the Tlingit and Haida Indian Tribes, P.O. Box 25500, Juneau, AK 99802-5500 | (907) 463-7169 | (907) 885-0032 | icwainquiries@tlingitandhaida.gov.
Orutsararmiut Traditional Native Council | Andrew Steven, ICWA Advocate | P.O. Box 927, Bethel, AK 99559-0927 | (907) 543-2608 | (907) 543-2639 | asteven@nativecouncil.org.
Oscarville Traditional Village | Melanie Fredericks, ICWA Program Manager | Association of Village Council Presidents, P.O. Box 219, Bethel, AK 99559 | (907) 543-8691 | (907) 543-7644 | icwa2@avcp.org.
Pauloff Harbor Village | Amanda McAdoo, Family Services Administrator | Aleutian Pribilof Islands Association Inc., 1131 E International Airport Road, Anchorage, AK 99518-1408 | (907) 276-2700 | (907) 279-4351 | amandam@apiai.org.
Pedro Bay Village | Verna Kolyaha, ICWA Worker | P.O. Box 47020, Pedro Bay, AK 99647 | (907) 850-2341 | (907) 850-2232 | vjkolyaha@pedrobay.com.
Petersburg Indian Association | Rachelle Larson, ICWA Director | P.O. Box 1410, Petersburg, AK 99833-1418 | (907) 772-3636 | (907) 772-3637 | icwa@piatribal.org.
Pilot Station Traditional Village | Melanie Fredericks, ICWA Program Manager | Association of Village Council Presidents, P.O. Box 219, Bethel, AK 99559 | (907) 543-8691 | (907) 543-7644 | icwa2@avcp.org.
Pitka's Point Traditional Council | Melanie Fredericks, ICWA Program Manager | Association of Village Council Presidents, P.O. Box 219, Bethel, AK 99559 | (907) 543-8691 | (907) 543-7644 | icwa2@avcp.org.
Platinum Traditional Village | Melanie Fredericks, ICWA Program Manager | Association of Village Council Presidents, P.O. Box 219, Bethel, AK 99559 | (907) 543-7461 | (907) 543-7644 | icwa2@avcp.org.
Portage Creek Village (aka Ohgsenakale) | Children's Services Division Manager | Bristol Bay Native Association, P.O. Box 310, Dillingham, AK 99576 | (907) 842-4139 | (907) 842-4106 | BBICWA@bbna.com.
Qagan Tayagungin Tribe of Sand Point | Amanda McAdoo, Family Services Coordinator | Aleutian Pribilof Islands Association Inc., 1131 E International Airport Road, Anchorage, AK 99518-1408 | (907) 276-2700 | (907) 279-4351 | amandam@apiai.org.
Qawalangin Tribe of Unalaska | Amanda McAdoo, Family Services Coordinator | Aleutian Pribilof Islands Association Inc., 1131 E International Airport Road, Anchorage, AK 99518-1408 | (907) 276-2700 | (907) 279-4351 | amandam@apiai.org.
Rampart Village | Valeen “Niisha” Walsh & Michelle Peter, Tribal Social Services Manager/ICWA Advocate | Tanana Chiefs Conference, 122 First Avenue, Suite 600, Fairbanks, AK 99701-4899 | (907) 452-8251 | (907) 459-3984 | valeen.walsh@tananachiefs.org.
Saint George Island | Amanda McAdoo, Family Services Coordinator | Aleutian Pribilof Islands Association Inc., 1131 E International Airport Road, Anchorage, AK 99518-1408 | (907) 276-2700 | (907) 279-4351 | amandam@apiai.org.
Saint Paul Island | Terri Coletta, Director, Department of Community Safety and Peace | 4720 Business Park Blvd, Suite G-42, Anchorage, AK 99503 | (907) 615-5200 | (907) 615-5289 | icwa@aleut.com.
Salamatof Tribe | Maria Guerra, Family and Social Services Director | Kenaitze Indian Tribe, P.O. Box 988, Kenai, AK 99611-0988 | (907) 335-7613 | (907) 202-8359 | familyservicesdepartment@kenaitze.org.
Seldovia Village Tribe | Crystal Collier, ICWA Program | Drawer L, Seldovia, AK 99663 | (907) 234-7898 | (907) 234-7865 | ccollier@svt.org.
Shageluk Native Village | Valeen “Niisha” Walsh & Michelle Peter, Tribal Social Services Manager/ICWA Advocate | Tanana Chiefs Conference, 122 First Avenue Suite 600, Fairbanks, AK 99701-4899 | (907) 452-8251 | (907) 459-3984 | valeen.walsh@tananachiefs.org.
Sitka Tribe of Alaska | Melonie Boord, Social Services Director | 204 Siginaka Way, Suite 300, Sitka, AK 99835 | (907) 747-7221 |  | staicwa@sitkatribe-nsn.gov.
Skagway Village | Sara Kinjo-Hischer, ICWA Worker | P.O. Box 1157, Skagway, AK 99840-1157 | (907) 983-4068 | (907) 983-3068 | Sara@skagwaytraditional.org.
South Naknek Village | Anishia Elbie, Interim ICWA Coordinator | P.O. Box 70029, South Naknek, AK 99670 | (907) 440-4100 |  | aelbie.snvc@gmail.com.
Stebbins Community Association | Heather Payenna, Child & Family Services Manager | Kawerak Inc. Children & Family Services, P.O. Box 948, Nome, AK 99762-0948 | (907) 443-4261 | (907) 443-5181 | hpayenna@kawerak.org.
Sun'aq Tribe of Kodiak | Sean Hales, Social Services Director | 312 West Marine Way, Kodiak, AK 99615 | (907) 531-5009 |  | shales@sunaq.org.
Takotna Village | Valeen “Niisha” Walsh & Michelle Peter, Tribal Social Services Manager/ICWA Advocate | Tanana Chiefs Conference, 122 First Avenue, Suite 600, Fairbanks, AK 99701-4899 | (907) 452-8251 | (907) 459-3984 | valeen.walsh@tananachiefs.org.
Tangirnaq Native Village | Gwen Sargent, Tribal Administrator | 3449 Rezanof Drive East, Kodiak, AK 99615-6952 | (907) 486-1361 |  | info@woodyisland.com.
Telida Village | Valeen “Niisha” Walsh & Michelle Peter, Tribal Social Services Manager/ICWA Advocate | Tanana Chiefs Conference, 122 First Avenue Suite, 600, Fairbanks, AK 99701-4899 | (907) 452-8251 | (907) 459-3984 | valeen.walsh@tananachiefs.org.
Traditional Village of Togiak | Children's Services Division Manager | Bristol Bay Native Association, P.O. Box 310, Dillingham, AK 99576 | (907) 842-4139 | (907) 842-4106 | BBICWA@bbna.com.
Tuluksak Native Community | Melanie Fredericks, ICWA Program Manager | Association of Village Council Presidents, P.O. Box 219, Bethel, AK 99559 | (907) 543-8691 | (907) 543-7644 | icwa2@avcp.org.
Twin Hills Village | Children's Services Division Manager | Bristol Bay Native Association, P.O. Box 310, Dillingham, AK 99576 | (907) 842-4139 | (907) 842-5257 | BBICWA@bbna.com.
Ugashik Village | Steven Alvarez, Tribal Administrator | 2525 Blueberry Road, Suite 205, Anchorage, AK 99503-2647 | (907) 338-7694 | (907) 338-7659 | manager@ugashikvillage.com.
Umkumiut Native Village | Melanie Fredericks, ICWA Program Manager | Association of Village Council Presidents, P.O. Box 219, Bethel, AK 99559 | (907) 543-8691 | (907) 543-7644 | icwa2@avcp.org.
Village of Alakanuk | Melanie Fredericks, ICWA Program Manager | Association of Village Council Presidents, P.O. Box 219, Bethel, AK 99559 | (907) 543-8691 | (907) 543-7644 | icwa2@avcp.org.
Village of Anaktuvuk Pass | Darlene Wagner, Social Services Director | Arctic Slope Native Association, P.O. Box 1232, Utqiagvik, AK 99723-1232 | (907) 852-9376 | (907) 852-2716 | Darlene.Wagner@arcticslope.org.
Village of Aniak | Mary L. Kvamme, ICWA Coordinator | Box 349, Aniak, AK 99557 | (907) 675-4733 | (907) 675-4513 | aniaktribe@gmail.com.
Village of Atmautluak | Melanie Fredericks, ICWA Program Manager | Association of Village Council Presidents, P.O. Box 219, Bethel, AK 99559 | (907) 543-8691 | (907) 543-7644 | icwa2@avcp.org.
Village of Bill Moore's Slough | Melanie Fredericks, ICWA Program Manager | Association of Village Council Presidents, P.O. Box 219, Bethel, AK 99559 | (907) 543-8691 | (907) 543-7644 | icwa2@avcp.org.
Village of Chefornak | Edward Kinegak, ICWA Worker | P.O. Box 110, Chefornak, AK 99561-0110 | (907) 867-8808 | (907) 867-8711 | suckaq@gmail.com.
Village of Clarks Point | Children's Services Division Manager | Bristol Bay Native Association, P.O. Box 310, Dillingham, AK 99576 | (907) 542-4139 | (907) 842-4106 | BBICWA@bbna.com.
Village of Crooked Creek | Melanie Fredericks, ICWA Program Manager | Association of Village Council Presidents, P.O. Box 219, Bethel, AK 99559 | (907) 543-8691 | (907) 543-7644 | icwa2@avcp.org.
Village of Dot Lake | Nikolas Fremin, Tracy Charles-Smith, Chance Shank, ICWA Representative, Tribal President, Tribal Judge | P.O. Box 70488, Fairbanks, AK 99707 | (907) 414-1992 |  | Nikolas.fremin@dotlakevillage.org.
Village of Iliamna | Chasity Anelon, ICWA Worker | P.O. Box 286, Iliamna, AK 99606-0286 | (907) 571-1246 | (907) 571-3539 | Chasity.anelon@iliamnavc.org.
Village of Kalskag | Melanie Fredericks, ICWA Program Manager | Association of Village Council Presidents, P.O. Box 219, Bethel, AK 99559 | (907) 543-8691 | (907) 543-7644 | icwa2@avcp.org.
Village of Kaltag | Valeen “Niisha” Walsh & Michelle Peter, Tribal Social Services Manager/ICWA Advocate | Tanana Chiefs Conference, 122 First Avenue, Suite 600, Fairbanks, AK 99701-4899 | (907) 452-8251 | (907) 459-3984 | valeen.walsh@tananachiefs.org.
Village of Kotlik | Melanie Fredericks, ICWA Program Manager | Association of Village Council Presidents, P.O. Box 219, Bethel, AK 99559 | (907) 543-8691 | (907) 543-7644 | MFredericks@avcp.org.
Village of Lower Kalskag | Melanie Fredericks, ICWA Program Manager | Association of Village Council Presidents, P.O. Box 219, Bethel, AK 99559 | (907) 543-8691 | (907) 543-7644 | icwa2@avcp.org.
Village of Ohogamiut | Melanie Fredericks, ICWA Program Manager | Association of Village Council Presidents, P.O. Box 219, Bethel, AK 99559 | (907) 543-8691 | (907) 543-7644 | icwa2@avcp.org.
Village of Red Devil | Melanie Fredericks, ICWA Program Manager | Association of Village Council Presidents, P.O. Box 219, Bethel, AK 99559 | (907) 543-8691 | (907) 543-7644 | MFredericks@avcp.org.
Village of Sleetmute | Melanie Fredericks, ICWA Program Director | Association of Village Council Presidents, P.O. Box 219, Bethel, AK 99559 | (907) 543-8691 | (907) 543-7644 | icwa2@avcp.org.
Village of Solomon | Sherri Lewis, ICWA Office | P.O. Box 2053, Nome, AK 99762-2053 | (907) 443-4985 | (907) 443-5189 | tc.sol@kawerak.org.
Village of Stony River | Melanie Fredericks, ICWA Program Manager | Association of Village Council Presidents, P.O. Box 219, Bethel, AK 99559 | (907) 543-8691 | (907) 543-7644 | icwa2@avcp.org.
Village of Venetie (See Native Village of Venetie Tribal Government) | Valeen “Niisha” Walsh & Michelle Peter, Tribal Social Services Manager/ICWA Advocate | Tanana Chiefs Conference, 122 First Avenue, Suite 600, Fairbanks, AK 99701-4899 | (907) 452-8251 | (907) 459-3984 | valeen.walsh@tananachiefs.org.
Village of Wainwright | Darlene Wagner, Social Services Director | Arctic Slope Native Association, P.O. Box 1232, Utqiagvik, AK 99723-1232 | (907) 852-9376 | (907) 852-2716 | Darlene.Wagner@arcticslope.org.
Wrangell Cooperative Association | Patty Lockhart, ICWA Administrative Assistant | Central Council of the Tlingit and Haida Indian Tribes, P.O. Box 25500, Juneau, AK 99802-5500 | (907) 463-7169 | (907) 885-0032 | icwainquiries@tlingitandhaida.gov.
Yakutat Tlingit Tribe | Penny James, Human Services Director | P.O. Box 387, Yakutat, AK 99689-0387 | (907) 784-3368 | (907) 784-3595 | pjames@ytttribe.org.
Yupiit of Andreafski | Melanie Fredericks, ICWA Program Manager | Association of Village Council Presidents, P.O. Box 219, Bethel, AK 99559 | (907) 543-8691 | (907) 543-7644 | MFredericks@avcp.org.

2. Eastern Region

Eastern Regional Director, 545 Marriot Drive, Ste. 700, Nashville, TN 37214; Telephone Number: (615) 546-6500; Fax Number: (615) 564-6701.

Tribe | ICWA agent | Mailing address | Phone No. | Fax No. | Email address
Catawba Indian Nation | Angela Branham, Director of Family and Social Services | 996 Avenue of The Nations, Rock Hill, SC 29730 | (803) 366-4792 | (803) 325-1242 | Angela.branham@catawba.com.
Cayuga Nation | Sharon Leroy, Executor | P.O. Box 803 Seneca Falls, NY 13148 | (315) 568-0750 | (315) 568-0752 | sharon.leroy@cayuganation-nsn.gov.
Chickahominy Indian Tribe | Brittany S. Johnson, ICWA Coordinator | 8200 Lott Cary Rd., Providence Forge, VA 23140 | (804) 829-2027 |  | Brittany.Johnson@chickahominytribe.org.
Chickahominy Indian Tribe—Eastern Division | Melanie Stewart, ICWA Coordinator | 2895 Mt. Pleasant Road, Providence Forge, VA 23140 | (804) 506-3552 | (804) 506-3597 | melanie.stewart@cit-ed.org.
Chitimacha Tribe of Louisiana | Karen Matthews, Human Services Director | P.O. Box 520, Charenton, LA 70523 | (337) 923-7000 | (337) 923-4205 | karen@chitimacha.gov.
Coushatta Tribe of Louisiana | Janson Poncho, ICWA Rep./S.S. Counselor | 1940 CC Bel Rd., Elton, LA 70532 | (337) 304-2017 | (337) 584-1474 | japoncho@coushatta.org.
Eastern Band of Cherokee Indians | Jenny Bean, Family Safety Supervisor | P.O. Box 666, Cherokee, NC 28719 | (828) 359-6149 |  | jennbean@ebci-nsn.gov.
Houlton Band of Maliseet Indians | Lori Jewell, ICWA Director | 88 Bell Road, Littleton, ME 04730 | (207) 538-2266 | (207) 532-7287 | ljewell@maliseets.com.
Jena Band of Choctaw Indians | Kim Purvis, ICWA Representative | P.O. Box 14, Jena, LA 71342 | (318) 992-0363 |  | kpurvis@jenachoctaw.org.
Mashantucket Pequot Indian Tribe | Jodi Milardo, Director Child Protective Services | 8 Annie George Dr., P.O. Box 3313, Mashantucket, CT 06338-3060 | (860) 396-2007 | (860) 396-2144 | Jmilardo@mptn-nsn.gov.
Mashpee Wampanoag Tribe | Maria Turner, ICWA Director | 483 Great Neck Road South, Mashpee, MA 02649 | (508) 477-0208 | (774) 361-6034 | maria.turner@mwtribe-nsn.gov.
Miccosukee Tribe of Indians | Martha Vega, Director of Social Services | P.O. Box 440021, Tamiami Station, Miami, FL 33144 | (305) 223-8380 | (305) 894-5232 | marthav@miccosukeetribe.com.
Mi'kmaq Nation | Norma Saulis, ICWA Director | 7 Northern Road, Presque Isle, ME 04769 | (207) 764-1972 | (207) 764-7667 | nsaulis@micmac-nsn.gov.
Mississippi Band of Choctaw Indians | ICWA Coordinator/Representative, Hannah Charlie | P.O. Box 6258, 354 Industrial Road, Choctaw, MS 39350 | (601) 656-4507 | (601) 656-1357 | icwa@choctaw.org.
Mohegan Tribe of Indians of Connecticut | Susie Jacobs, LMSW, Social Services Manager | 13 Crow Hill Road, Uncasville, CT 06382 | (860) 862-6236 | (860) 862-6133 | sjacobs@moheganmail.com.
Monacan Indian Nation | Matthew & Sally Latimer, ICWA Coordinators | 111 Highview Drive, Madison Heights, VA 24572 | (434) 363-4864 |  | Sally.ICWA@mincf.org.
Nansemond Indian Nation | Chief Keith F. Anderson | 1001 Pembroke Lane, Suffolk, VA 23434 | (757) 619-0670 |  | chief@nansemond.org.
Narragansett Indian Tribe | Anemone Mars, ICWA Program Manager | 4533 South County Trail, P.O. Box 268, Charlestown, RI 02813 | (401) 364-9500 | (401) 364-1104 | n.tcfs.dept@outlook.com.
Oneida Indian Nation | Kim Jacobs, Nation Clerk | Box 1, Vernon, NY 13476 | (315) 829-8337 | (315) 366-9231 | kjacobs@oneida-nation.org.
Onondaga Nation | Ginger Jacobs, MSW, Onondaga Family Services | 104 West Conklin Ave., Nedrow, NY 13120 | (315) 506-5786 | (315) 469-3250 | ononfs@gmail.com.
Pamunkey Indian Tribe | Jessica Bradby, ICWA/Enrollment Coordinator | 1054 Pocahontas Trail, King William, VA 23086 | (804) 843-2372 |  | jessica.bradby@pamunkey.org.
Passamaquoddy Tribe—Indian Township | Carrie Cropley, Director of Child & Family Services | P.O. Box 301, Princeton, ME 04668 | (207) 904-8701 | (207) 796-2999 | ccropley.itcw@gmail.com.
Passamaquoddy Tribe—Pleasant Point | Diane Libby, Director | P.O. Box 343, Perry, ME 04667 | (207) 853-5139 | (207) 853-9618 | dlibby2021@gmail.com.
Penobscot Nation | Michael Augustine, Director of Social Services | 2 Down Street, Indian Island, ME 04468 | (207) 817-3165 | (207) 817-3166 | Michael.Augustine@penobscotnation.org.
Poarch Band of Creek Indians | Synethia K. Thomas, ICWA Director | 5811 Jack Springs Road, Atmore, AL 36502 | (251) 368-9136 | (251) 368-0828 | sthomas@pci-nsn.gov.
Rappahannock Tribe, Inc | G. Anne Richardson, ICWA Coordinator | 5036 Indian Neck Road, Indian Neck, VA 23148 | (804) 769-0260 |  | info@rappahannocktribe.org.
Saint Regis Mohawk Tribe | Sky Timmons, ICWA Program Manager | 71 Margaret Terrance Memorial Way, P.O. Box 1160, Akwesasne, NY 13655 | (518) 358-2360 | (518) 333-0229 | sky.timmons@srmt-nsn.gov.
Seminole Tribe of Florida | Shamika Beasley, Advocacy Assistant Director | 111 W Coral Way, Hollywood, FL 33021 | (954) 965-1338 | (954) 985-2339 | shamikabeasley@semtribe.com.
Seneca Nation of Indians | Shaela Maybee, Director of Child & Family Services | 987 RC Hoag Drive, Salamanca, NY 14799 | (716) 945-5894 | (716) 945-7881 | shmaybee@senecahealth.org.
Shinnecock Indian Nation | Paula Collins, ICWA Coordinator | P.O. Box 1268, South Hampton, NY 11969 | (631) 287-6476 |  | paulacollins@shinnecock.org.
Tonawanda Band of Seneca | Chief Roger Hill | 7027 Meadville Road, Basom, NY 14013 | (716) 542-4244 | (716) 542-4008 | tonseneca@aol.com.
Tunica-Biloxi Indian Tribe | Evelyn Cass, Social Service Department | P.O. Box 493, Marksville, LA 71351 | (318) 240-6455 | (318) 500-3011 | ecass@tunica.org.
Tuscarora Nation | Chief Tom Jonathan, Clerk | 5226 Walmore Road, Lewiston, NY 14092 | (716) 264-6007 |  | tuscnationhouse@gmail.com.
Upper Mattaponi Tribe | Wilma Hicks, Director of Records Management/Enrollment Officer | 13476 King Willliam Road, King William, VA 23086 | (804) 769-0041 |  | wilma.hicks@umitribe.org.
Wampanoag Tribe of Gay Head (Aquinnah) | Paul Jeffers-Mayhew, ICWA Coordinator | 20 Black Brook Road, Aquinnah, MA 02535 | (508) 645-9265 | (508) 645-3790 | csps@wampanoagtribe-nsn.gov.

3. Eastern Oklahoma Region

Eastern Oklahoma Regional Director, Atten: Human Services, P.O. Box 8002, Muskogee, OK 74402; Telephone Number: (918) 781-4600; Fax Number (918) 781-4604.

Tribe | ICWA agent | Mailing address | Phone No. | Fax No. | Email address
Alabama-Quassarte Tribal Town | Vacant | P.O. Box 187, Wetumka, OK 74883 | (405) 452-3659 | (405) 452-3435
Cherokee Nation | Sally Wilson, ICW Senior Director | P.O. Box 948, Tahlequah, OK 74465 | (918) 458-6900 | (918) 458-4216 | ICWAEligCherokeeNation@cherokee.org.
Delaware Tribe of Indians | Shelby Lacey, Department of Family and Children Services | 5100 Tuxedo Blvd., Ste. C, Bartlesville, OK 74006 | (918) 337-6610 | (918) 337-6518 | slacey@delawaretribe.org.
Eastern Shawnee Tribe of Oklahoma | Tamara Gibson, Child and Family Services Coordinator | 10100 S Bluejacket Road, Suite 3, Wyandotte, OK 74370 | (918) 666-7710 | (888) 971-3908 | tgibson@estoo.net.
Kialegee Tribal Town | Angie Beaver, ICW Coordinator | P.O. Box 332, Wetumka, OK 74883 | (405) 452-5388 | (405) 452-3413 | angie.beaver@kialegeetribe.net.
Miami Tribe of Oklahoma | Corinna Campbell-Green, ICWA Coordinator | P.O. Box 1326, Miami, OK 74355 | (918) 541-1381 | (918) 542-6448 | Ccampbell-green@miamination.com.
Modoc Nation | Amy Maze-Crowder, ICW Coordinator | 21 N Eight Tribes Trail, Ste. B, Miami, OK 74354 | (918) 387-8720 | (918) 542-7878 | amy.maze-crowder@modocnation.com.
Ottawa Tribe of Oklahoma | Rhonda Hayworth, Director of HS, ICWA Designee | P.O. Box 110, Miami, OK 74355 | (918) 540-1536 | (918) 542-3214 | rhonda.oto@gmail.com.
Peoria Tribe of Indians of Oklahoma | Tracy Coach, Indian Child Welfare Director | P.O. Box 1527, Miami, OK 74355 | (918) 540-2535 | (918) 540-2538 | tcoach@peoriatribe.com.
Quapaw Nation | Meridity Lynn, ICW Manager | 58150 E 66 Rd., Miami, OK 74354 | (918) 238-3127 | (918) 674-5843 | ICW@quapawnation.com.
Seneca-Cayuga Nation | Kim Phillips, ICW Director | P.O. Box 453220, Grove, OK 74345 | (918) 791-6054 | (918) 787-5521 | kphillips@sctribe.com.
Shawnee Tribe | Stephanie Hailey, ICW Director | P.O. Box 189, Miami, OK 74355 | (918) 542-2441 |  | stephanie@shawnee-tribe.com.
The Chickasaw Nation | Jennifer Huff, Director | 810 Colony Drive, Ada, OK 74820 | (580) 272-5550 | (580) 272-5553 | ICWACPS@chickasaw.net.
The Choctaw Nation of Oklahoma | Amanda Robinson, ICWA Director | 1802 Chukka Hina Dr., P.O. Box 1210, Durant, OK 74702 | (580) 924-8280 | (580) 642-8877 | cfsreferrals@choctawnation.com.
The Muscogee (Creek) Nation | Michelle Bender, CFSA Director | P.O. Box 580, Okmulgee, OK 74447 | (918) 732-7869 | (918) 732-7854 | mbender@muscogeenation.com.
The Osage Nation | Jerod Applegate, Social Work Supervisor | 255 Senior Drive, Pawhuska, OK 74056 | (918) 287-5335 | (918) 287-5231 | jerod.applegate@osagenation-nsn.gov.
The Seminole Nation of Oklahoma | Stephanie Haney Brown, Director | P.O. Box 1498, Wewoka, OK 74884 | (405) 584-8660 | (405) 257-9036 | haneybrown.s@sno-nsn.gov.
Thlopthlocco Tribal Town | Yvonda Fixico, Social Service Director | P.O. Box 188, Okemah, OK 74859 | (918) 560-6198 | (918) 623-3023 | yfixico@tttown.org.
United Keetoowah Band of Cherokee Indians in Oklahoma | Bethany Vance, ICW Coordinator | P.O. Box 746, Tahlequah, OK 74465 | (918) 871-2762 | (918) 431-0152 | bvance@ukb-nsn.gov.
Wyandotte Nation | Tara Gragg, ICWA Supervisor | 8 Turtle Dr., Wyandotte, OK 74370 | (918) 678-2297 | (918) 676-7028 | wnfs@wyandotte-nation.org.

4. Great Plains Region

Great Plains Regional Director, Attn: Human Services, 115 4th Avenue SE, Ste. 400, Aberdeen, SD 57401; Telephone Number: (605) 226-7343; Fax Number: (605) 226-7446.

Tribe | ICWA agent | Mailing address | Phone No. | Fax No. | Email address
Cheyenne River Sioux Tribe of the Cheyenne River Reservation, South Dakota | Diane Garreau or Kayla Bagola, ICWA Program Director/ICWA Case Manger | 104 Main Teton Mall, P.O. Box 590, Eagle Butte, SD 57625 | (605) 964-6460 | (605) 964-6463 | Dgarreau81@gmail.com.
Crow Creek Sioux Tribe of the Crow Creek Reservation, South Dakota | Donita Loudner, CCST ICWA Director | 147 Red Horse Road, P.O. Box 143, Ft Thompson, SD 57339 | (605) 245-2581 | (605) 245-2401 | loudner_donita@yahoo.com.
Flandreau Santee Sioux Tribe of South Dakota | Jessica Morson, ICWA Administrator | 603 W Broad Ave., P.O. Box 283, Flandreau, SD 57028 | (605) 997-5055 | (605) 997-3878 | jessica.morson@fsst.org.
Lower Brule Sioux Tribe of the Lower Brule Reservation, South Dakota | Lydia Skunk, ICWA Director | 187 Oyate Circle, Lower Brule, SD 57548 | (605) 473-5561 | (605) 473-5506 | lydiasazue@lowerbrule.net.
Oglala Sioux Tribe | Susan Schrader, Kimmie Clausen, Oglala Sioux Tribe ICWA Supervisor/ICWA Case Manager | East Hwy. 18, IHS Compound, P.O. Box 604, Pine Ridge, SD 57770 | (605) 867-5752 | (605) 867-5941 | s.schrader@oglala.org.
Omaha Tribe of Nebraska | Shawn Sheridan, ICWA Specialist | P.O. Box 500, Macy, NE 68039 | (402) 837-5331 | (402) 837-5362 | shawn.sheridan@omahatribe.com.
Ponca Tribe of Nebraska | Stephanie Pospisil, Social Service Program Director | 1600 Windhoek Drive, Lincoln, NE 68512 | (531) 248-3030 | (531) 500-4530 | spopisil@poncatribe-ne.org.
Rosebud Sioux Tribe of the Rosebud Indian Reservation, South Dakota | Shirley J. Bad Wound, ICWA Specialist | East Hwy. 18, P.O. Box 609, Mission, SD 57555 | (605) 856-5270 | (605) 856-5268 | rsticwa9@gwtc.net.
Santee Sioux Nation, Nebraska | Renae Helper, ICWA Specialist | 425 Frazier Ave. N, Suite 2, RR 302-P.O. Box 5191, Niobrara, NE 68760 | (402) 857-2342 | (402) 857-2361 | renae.wolf@nebraska.gov.
Sisseton-Wahpeton Oyate of the Lake Traverse Reservation, South Dakota | Evelyn Pilcher, ICWA Director | 12554 BIA Route 701, P.O. Box 509, Agency Village, SD 57262 | (605) 698-3992 | (605) 698-3999 | evelyn.pilcher@state.sd.us.
Spirit Lake Tribe, North Dakota | Marie Martin, ICWA Coordinator | 7184 Highway 57, P.O. Box 356, Fort Totten, ND 58335 | (701) 766-4855 | (701) 766-4722 | slticwadir@spiritlakenation.com.
Standing Rock Sioux Tribe of North & South Dakota | Michelle Harrison, ICWA Director | Bldg. 1 Standing Rock Ave., P.O. Box 770, Fort Yates, ND 58538 | (701) 854-3095 | (701) 854-5575 | mharrison@standingrock.org.
Three Affiliated Tribes of the Fort Berthold Reservation, North Dakota | Shelby Fox, ICWA Worker | 307 5th Ave., New Town, ND 58763 | (701) 627-8150 | (701) 627-5550 | shelbyfox@mhanation.com.
Turtle Mountain Band of Chippewa Indians of North Dakota | Marilyn Poitra, ICWA Coordinator | 4051 Hwy. 281, P.O. Box 900, Belcourt, ND 58316 | (701) 477-5688 | (701) 477-5797 | marilynp@tmcwfs.net.
Winnebago Tribe of Nebraska | Elexa Mollet, ICWA Specialist | 218 Industrial Road, P.O. Box 723, Winnebago, NE 68071 | (402) 385-8792 | (402) 878-2228 | elexa.mollet@winnebagotribe.com.
Yankton Sioux Tribe of South Dakota | Kennedy Sully, ICWA Director | 108 East Ave. SE, P.O. Box 1153, Wagner, SD 57380 | (605) 384-5712 | (605) 384-5014 | ksully@yanktonsiouxtribe.net.

5. Midwest Region

Midwest Regional Director, 5600 West American Blvd., Ste. 500, Pointe II Building, Bloomington, MN 55437; Telephone Number: (612) 725-4500; Fax Number: (612) 713-4401.

Tribe | ICWA agent | Mailing address | Phone No. | Fax No. | Email address
Bad River Band of the Lake Superior Tribe of Chippewa Indians of the Bad River Reservation, Wisconsin | Gina Secord or Social Services Supervisor, ICWA Case Manger | P.O. Box 55, Odanah, WI 54861 | (715) 682-7127 | (715) 682-7883 | SocSerDirector@badriver-nsn.gov.
Bay Mills Indian Community, Michigan | Phyllis Malloy, Enrollment Specialist | 12140 West Lakeshore Drive, Brimley, MI 49715 | (906) 248-8100 | (906) 248-3283 | phyllism@baymills.org.
Forest County Potawatomi Community, Wisconsin | Deanna Collins/ICWA Contact, ICWA Representative | 5415 Everybody's Road, P.O. Box 340, Crandon, WI 54520 | (715) 478-4957 | (715) 478-7442 | Deanna.Collins@fcp-nsn.gov.
Grand Traverse Band of Ottawa & Chippewa Indians, Michigan | Denise Johnson or Robert Downen, Anishinaabek Family Services Supervisor and CPS Investigator | 2605 N West Bayshore Drive, Peshawbestown, MI 49682-9275 | (231) 534-7124 | (231) 534-7706 | ICWA@gtb-nsn.gov.
Hannahville Indian Community, Michigan | Sheila Nantelle or Arysha Plagens, ICWA Contacts | N15750 Hannahville Road B-1, c/o ICWA Designated Agent, Wilson, MI 49896 | (906) 723-2510 | (906) 723-2519 | Sheila.Nantelle@hichealth.org.
Ho-Chunk Nation of Wisconsin | Valerie Blackdeer or ICWA Representative. CFS Director/ICWA Contact | 808 Red Iron Road, Black River Falls, WI 54615 | (715) 284-7749 | (715) 284-0097 | ICW@ho-chunk.com.
Keweenaw Bay Indian Community, Michigan | Nancy Pawlowski or ICWA Contact, ICWA Designated Agent/Social Work Technician | 16429 Bear Town Road, Baraga, MI 49908 | (906) 353-4201 | (906) 353-8171 | nancy@kbic-nsn.gov.
Lac Courte Oreilles Band of Lake Superior Chippewa Indians of Wisconsin | Tibissum Rice or Carole DeMain, Indian Child Welfare & Family Services Director/Admin Asst | 13394 W Trepania Road, Hayward, WI 54843 | (715) 558-7457 | (715) 634-2981 | Tibissum.Rice@lco-nsn.gov.
Lac du Flambeau Band of Lake Superior Chippewa Indians of the Lac du Flambeau Reservation of Wisconsin | Robyn Garcia, Family Services & ICW Director | P.O. Box 216, Lac du Flambeau, WI 54538 | (715) 588-4271 | (715) 588-3855 | icw@ldftribe.com.
Lac Vieux Desert Band of Lake Superior Chippewa Indians of Michigan | Wendy Thrasher or Dee Dee McGeshick, ICWA Representative/Social Services Director | P.O. Box 249, Watersmeet, MI 49969 | (906) 358-4940 | (906) 358-9920 | Wendy.Thrasher@lvd-nsn.gov.
Little River Band of Ottawa Indians, Michigan | Marissa Rivera, Paralegal | 3031 Domres Road, Manistee, MI 49660 | (231) 398-3384 |  | MarissaKist@lrboi-nsn.gov.
Little Traverse Bay Bands of Odawa Indians, Michigan | Heather Boening or Melanie Gasco, Human Services Director/Program Manager | 7500 Odawa Circle Attn: DHSm Harbor Springs, MI 49740 | (231) 242-1620 | (231) 242-1635 | ICWA@ltbbodawa-nsn.gov.
Lower Sioux Indian Community in the State of Minnesota | Adam Coulson or ICWA Representative, Lower Sioux Family Services | 39458 Reservation Highway 1, P.O. Box 308, Morton, MN 56270 | (507) 697-8688 | (507) 697-6198 | lsfsintake@lowersioux.com.
Match-e-be-nash-she-wish Band of Pottawatomi Indians of Michigan | Dominique Ambriz or ICWA Representative, Social Services Manager | 2880 Mission Dr., Shelbyville, MI 49344 | (269) 397-1760 | (269) 397-1761 | Dominique.Ambriz@hhs.glt-nsn.gov.
Menominee Indian Tribe of Wisconsin | Carol Corn, Director, Menominee Tribal Family Services | P.O. Box 520, Keshena, WI 54135 | (715) 799-5161 | (715) 799-6061 | MenomineeFamilyServices@mitw.org.
Minnesota Chippewa Tribe | Joel Smith, Director of Administration | 15542 State Hwy. 371, P.O. Box 217, Cass Lake, MN 56633 | (218) 335-8581 |  | jsmith@mnchippewatribe.org.
Minnesota Chippewa Tribe—Bois Forte Band (Nett Lake) | Angela Wright, Indian Child Welfare Manager | 13071 Nett Lake Road, Suite A, Nett Lake, MN 55771 | (218) 757-3295 | (218) 757-3335 | amwright@boisforte-nsn.gov.
Minnesota Chippewa Tribe—Fond du Lac Band | Janelle Barney or ICWA Representative | 927 Trettel Lane, ATTN: Social Services, Cloquet, MN 55720 | (218) 878-2142 | (218) 878-2189 | icwanotices@fdlrez.com.
Minnesota Chippewa Tribe—Grand Portage Band | Jacki Kozlowski or ICWA Representative, Human Service Director/ICWA Contact | P.O. Box 428, Grand Portage, MN 55605 | (218) 475-2453 | (218) 475-2455 | jkozlowski@grandportage.com.
Minnesota Chippewa Tribe—Leech Lake Band | Justina Farris or ICWA Representative, Intake Coordinator/ICWA Contact | 190 Sailstar Dr. NE, P.O. Box 967, Cass Lake, MN 56633 | (218) 335-8328 | (218) 335-3768 | justina.farris@llojibwe.net.
Minnesota Chippewa Tribe—Mille Lacs Band | Tabatha Boyd, Paralegal or ICWA Representative, Paralegal/ICWA Contact | 43408 Oodena Drive, Onamia, MN 56359 | (320) 364-9539 | (320) 532-7836 | Notices.OSG@millelacsband.com.
Minnesota Chippewa Tribe—White Earth Band | Designated ICWA Representative | White Earth Indian Child Welfare, P.O. Box 358, White Earth, MN 56591 | (218) 985-6260 | (833) 786-1799 | aimeer.millage@whiteearth-nsn.gov.
Nottawaseppi Huron Band of the Potawatomi, Michigan | Meg Fairchild or ICWA Representative, Social Services Director | 1485 Mno-Bmadzewen Way, Fulton, MI 49052 | (269) 704-8341 | (269) 704-8341 | meg.fairchild@nhbp-nsn.gov.
Oneida Nation | Jennifer Berg-Hargrove/Kim Nicholls/ICWA Representative, Family Services Director/ICWA Contact | Attn: Oneida Family Services, ICW Department, P.O. Box 365, Oneida, WI 54155 | (920) 490-3700 | (920) 490-3820 | icw@oneidanation.org.
Pokagon Band of Potawatomi Indians, Michigan & Indiana | Mark Pompey, Social Services Director | 58620 Sink Road, Dowagiac, MI 49047 | (269) 462-4277 | (269) 782-4295 | mark.pompey@pokagonband-nsn.gov.
Prairie Island Indian Community in the State of Minnesota | Markie Bellanger, Enrollment Clerk | 5636 Sturgeon Lake Road, Welch, MN 55089 | (651) 385-4126 |  | enrollmentclerk@piic.org.
Red Cliff Band of Lake Superior Chippewa Indians of Wisconsin | Juliet Means, Indian Child Welfare Director | 88455 Pike Rd., Bayfield, WI 54814 | (715) 779-3747 |  | juliet.means@redcliff-nsn.gov.
Red Lake Band of Chippewa Indians, Minnesota | Red Lake Band of Chippewa Indians—Miskwaagamiiwi'zaaga-iganing Attn: Paula Prentice, ICWA Notices | 2000 Aldrich Ave. S, Minneapolis, MN 55405 | (612) 554-7453 |  | ICWA@redlakenation.org.
Sac and Fox Tribe of the Mississippi in Iowa | Mylene Wanatee, Family Services Director | P.O. Box 245, Tama, IA 52339 | (641) 484-4444 | (641) 484-2103 | mylene.wanatee@meskwaki-nsn.gov.
Saginaw Chippewa Indian Tribe of Michigan | Alexandria Mayo and Carrie Heron, Director/ICWA Worker | 7500 E. Soaring Eagle Blvd., Mt. Pleasant, MI 48858 | (989) 775-4901 | (989) 775-4912 | icwa@sagchip.org.
Sault Ste. Marie Tribe of Chippewa Indians, Michigan | Melissa VanLuven or ICWA Representative, ICWA Program Director | 2218 Shunk Rd., Sault Ste. Marie, MI 49783 | (906) 632-5250 | (906) 632-5266 | ICWA-MIFPA-Contacts@saulttribe.net.
Shakopee Mdewakanton Sioux Community of Minnesota | ICWA Representative or Lisa Tittle, ICWA Contact | 2330 Sioux Trail NW, Prior Lake, MN 55372 | (952) 496-6163 |  | ICWA@shakopeedakota.org.
Sokaogon Chippewa Community, Wisconsin | Mandi VanZile or Michele Shawano or ICWA Contact, Indian Child Welfare/Family Services Director | 3051 Sand Lake Road, Crandon, WI 54520 | (715) 478-6423 | (715) 478-0692 | Mandi.eernisse@scc-nsn.gov.
St. Croix Chippewa Indians of Wisconsin | Elizabeth Lowe/ICWA Representative, Indian Child Welfare Director | 24663 Angeline Avenue, Webster, WI 54893 | (715) 214-2940 | (715) 349-8665 | elizabethl@stcroixojibwe-nsn.gov.
Stockbridge Munsee Community, Wisconsin | Natalie Minshell and Crystal Malone, ICWA Contact | Stockbridge Munsee Health and Wellness Center, W12802 County A, Bowler, WI 54416 | (715) 793-4580 | (715) 793-1312 | Natalie.Minshell@mohican-nsn.gov.
Upper Sioux Community, Minnesota | ICWA Representative, Social Services | P.O. Box 147, 5744 Hwy. 67, Granite Falls, MN 56241 | (320) 564-6318 | (320) 564-2550 | jenniferr@uppersiouxcommunity-nsn.gov.

6. Navajo Region

Navajo Regional Director, Navajo Regional Office, P.O. Box 1060, Gallup, NM 87305; Telephone Number: (505) 863-8314, Fax Number: (505) 863-8324.

Tribe | ICWA agent | Mailing address | Phone No. | Fax No. | Email address
Navajo Nation, Arizona, New Mexico & Utah | Crescentia Tso, ICWA Program Manager | Navajo Indian Child Welfare Act Program, P.O. Box 769, Saint Michaels, AZ 86511 | (928) 871-7006 | (928) 871-7604 | crescentiatso@navajo-nsn.gov.

7. Northwest Region

Northwest Regional Director, 911 NE 11th Ave., Portland, OR 97232; Telephone Number: (503) 231-6702; Fax Number (503) 231-2201.

Tribe | ICWA agent | Mailing address | Phone No. | Fax No. | Email address
Burns Paiute Tribe | James St Martin, Social Services Director | 100 Pasigo Street, Burns, OR 97720 | (541) 573-8004 | (541) 573-4217 | James.StMartin@burnspaiute-nsn.gov.
Coeur d'Alene Tribe | Toni Whitman, ICW Program Manager | P.O. Box 408, 1120 B St., Plummer, ID 83851 | (208) 686-0675 | (208) 686-2059 | toni.whitman@cdatribe-nsn.gov.
Confederated Salish and Kootenai Tribes of the Flathead Reservation | Myra Harris, ICWA Worker | P.O. Box 278, 42487 Complex Blvd, Pablo, MT 59821 | (406) 675-2700 |  | myra.harris@cskt.org.
Confederated Tribes and Bands of the Yakama Nation | Stephanie Gomez & Gloria “Cassey” Aranda, Prosecutor & Program Manager | Attn: Prosecutor's Office, P.O. Box 151 Toppenish, WA 98948 | (509) 865-5121 |  | stephanie_gomez@yakama.com.
Confederated Tribes of Siletz Indians of Oregon | Amanda Barnhart and Jaime Pineda, Family Services Program Administrator; Social and Human Services Director | P.O. Box 549, Siletz, OR 97380 | (541) 819-2327 | (541) 444-8370 | amandab@ctsi.nsn.us.
Confederated Tribes of the Chehalis Reservation | Frances Pickernell, Director of Social Services | P.O. Box 536, 420 Howanut Rd., Oakville, WA 98568 | (360) 709-1754 | (360) 273-5207 | fpickernell@chehalistribe.org.
Confederated Tribes of the Colville Reservation | Buffy Nicholson, Children and Family Services Director | P.O. Box 150, 21 Colville St., Nespelem, WA 99155-011 | (509) 634-2764 | (509) 634-2633 | buffy.nicholson@colvilletribes.com.
Confederated Tribes of the Coos, Lower Umpqua and Siuslaw Indians | Shayne Platz and Kelly Bradley, Lead ICWA Case Mgr. and Social Services Director | 1245 Fulton Ave. Coos Bay, OR 97420 | (541) 297-3450 | (541) 304-2180 | splatz@ctclusi.org.
Confederated Tribes of the Grand Ronde Community of Oregon | Donna Johnson, ICWA Intake | 9615 Grand Ronde Road, Grand Ronde, OR 97347-0038 | (503) 879-4529 | (503) 879-2142 | donna.johnson@grandronde.org.
Confederated Tribes of the Umatilla Indian Reservation | Garrett Brown, Attorney | Confederated Tribes of the Umatilla Indian Reservation—Office of Legal Counsel, 46411 Timine Way, Pendleton, OR 97801 | (541) 429-7403 |  | GarrettBrown@ctuir.org.
Confederated Tribes of the Warm Springs Reservation of Oregon | Cyrille Mitchell, CPS Director | P.O. Box C, Warm Springs, OR 97761 | (541) 553-3209 | (541) 553-3281 | Cyrille.mitchell@wstribes.org.
Coquille Indian Tribe | Roni Jackson, ICWA Caseworker | 600 Miluk Drive, P.O. Box 3190, Coos Bay, OR 97420 | (541) 888-9494 | (541) 888-0673 | ronijackson@coquilletribe.org.
Cow Creek Band of Umpqua Tribe of Indians | Michele Moore, Human Services Director | 2371 NE Stephens Street, Suite 100, Roseburg, OR 97470 | (541) 643-8241 | (541) 492-5260 | mmoore@cowcreek-nsn.gov.
Cowlitz Indian Tribe | Cowlitz Indian Tribe Attn: Tribal Attorney | P.O. Box 996, Ridgefield, WA 98642 | (360) 957-8876 |  | legal@cowlitz.org.
Hoh Indian Tribe | Kristina Currie and Britni Duncan, Interim ICW Worker and Interim Family Service Manager | P.O. Box 2196, Forks, WA 98331 | (360) 374-6582 | (360) 374-5426 | kristina.Currie@hohtribe-nsn.org.
Jamestown S'Klallam Tribe | Jessica Humphries & Dustin Brenske, Family Services Manager/Social Services Director | Social and Community Services, 1033 Old Blyn Hwy. Sequim, WA 98382 | (360) 460-0644 | (360) 681-4647 | jhumphries@jamestowntribe.org.
Kalispel Indian Community of the Kalispel Reservation | Kelly Good, ICW Program Supervisor | 934 S Garfield Road, Airway Heights, WA 99001 | (509) 789-7632 | (509) 789-7675 | kgood@camashealth.com.
Klamath Tribes | Lisa Ruiz, Children & Family Service Program Manager | P.O. Box 436, Chiloquin, OR 97624 | (541) 783-2219 | (541) 783-7783 | Lisa.ruiz@klamathtribes.com.
Kootenai Tribe of Idaho | Desire Aitken, Council member | P.O. Box 1269, Bonners Ferry, ID 83805 | (208) 267-3519 | (208) 267-2960 | desire@kootenai.org.
Lower Elwha Tribal Community | Vashti White, ICW Program Manager | 3080 Lower Elwha Road, Port Angeles, WA 98363 | (360) 912-4210 | (866) 277-3141 | elwhaicw@elwha.org.
Lummi Tribe of the Lummi Reservation | Jolene Nagy, Child Welfare Program Manager | P.O. Box 1024, Ferndale, WA 98248 | (360) 384-2324 | (360) 384-2341 | LummiCWtribalinquiries@lummi-nsn.gov.
Makah Indian Tribe of the Makah Indian Reservation | Crysandra Sones, Social Services Manager | P.O. Box 115, Neah Bay, WA 98357 | (360) 645-3270 | (360) 645-2806 | crysandra.sones@makah.com.
Metlakatla Indian Community, Annette Island Reserve | Madisyn Janes-Wallace, Social Services Director & ICWA Representative | P.O. Box 8, Metlkatla, AK 99926 | (907) 886-6914 | (907) 886-6913.
Muckleshoot Indian Tribe | Alexandra Cruz-James, Director of Human Services | 39015 172nd Avenue SE, Auburn, WA 98092 | (253) 876-3261 | (253) 876-3061 | alex.cruz@muckleshoot.nsn.us.
Nez Perce Tribe | Rebecca Lehman/Jackie McArthur, Director of Indian Child Welfare/Social Services Manager | 326 Agency Rd. P.O. Box 365, Lapwai, ID 83540 | (208) 621-4666 | (208) 843-9401 | rebeccal@nezperce.org.
Nisqually Indian Tribe | Jasmine McDonald, Nisqually Children and Family Services Manager | 4820 She- Nah-Num Drive SE, Olympia, WA 98513 | (360) 456-5221 | (360) 486-9555 | mcdonald.jasmine@nisqually-nsn.gov.
Nooksack Indian Tribe | Montaine Healy-Green, Director, Nooksack Youth & Family Services | P.O. Box 157, Deming, WA 98244 | (360) 398-6557 | (360) 592-0167 | mhealy-green@nooksack-nsn.gov.
Northwestern Band of the Shoshone Nation | Courtney Muir, Tribal Benefits Coordinator | Enrollment Department, 2575 Commerce Way, Ogden, UT 84401 | (435) 339-0209 | (435) 734-0424 | cmuir@nwbshoshone.com.
Port Gamble S'Klallam Tribe | Cheryl Miller, Children and Family Services Director | 31912 Little Boston Road NE, Kingston, WA 98346 | (360) 297-9665 | (360) 297-9666 | cmiller@pgst.nsn.us.
Puyallup Tribe of the Puyallup Reservation | Marriah Betschart, ICW Director | 3009 E. Portland Avenue, Tacoma, WA 98404 | (253) 442-5368 | (253) 680-5769 | Marriah.E.Betschart@PuyallupTribe-nsn.gov.
Quileute Tribe of the Quileute Reservation | Sharon Millett, ICW Program Manager | P.O. Box 69, LaPush, WA 98350 | (360) 640-2428 |  | quileute.icw@quileutetribe.com.
Quinault Indian Nation | Aliza Brown, Social Services Director | P.O. Box 189, Taholah, WA 98587 | (360) 276-8215 | (360) 276-4152 | icw@quinault.org.
Samish Indian Nation | Caritina Gonzalez, Social Services Director | Samish Nation Social Services, 715 Seafarer's Way Suite 103, Anacortes, WA 98221 | (360) 298-0104 | (360) 299-4357 | cgonzalez@samishtribe.nsn.us.
Sauk-Suiattle Indian Tribe | Kinshasha Jackson & Wendy Smith, ICW Family Services Specialist | 5318 Chief Brown Lane, Darrington, WA 98241 | (360) 436-2204 | (360) 436-2227 | icw@sauk-suiattle.com.
Shoalwater Bay Indian Tribe of the Shoalwater Bay Indian Reservation | Kathirine Horne, Director | P.O. Box 130, Tokeland, WA 98590 | (360) 267-8134 | (360) 267-0247 | khorne@shoalwaterbay-nsn.gov.
Shoshone-Bannock Tribes of the Fort Hall Reservation | Malissa Poog/Cheri Outcelt, Shoshone-Bannock Tribal Social Services Child Welfare Program | P.O. Box 306, Fort Hall, ID 83203 | (208) 478-3731 | (208) 478-3964 | Malissa.poog@sb-thhs.com.
Skokomish Indian Tribe | Robert Zachry, ICW Case Manager | N 100 Tribal Center Road, Skokomish, WA 98584 | (360) 426-5755 | (360) 877-2135 | rzachry@skokomish.org.
Snoqualmie Indian Tribe | Colleen Studinarz, Snoqualmie Indian Child Welfare Program Manager | P.O. Box 969, Snoqualmie, WA 98065 | (425) 628-1439 | (425) 689-1272 | colleen.studinarz@snoqualmietribe.us.
Spokane Tribe of the Spokane Reservation | Lainie Green, Division of Child and Family Services Director | P.O. Box 540, 6228 E Old School Road, Wellpinit, WA 99040 | (509) 606-2018 | (509) 258-7029 | Lainie.Green@spokanetribe.com.
Squaxin Island Tribe of the Squaxin Island Reservation | Jennifer L. Cookston, Family Services Director | 10 SE Squaxin Lane Shelton, WA 98584-9200 | (360) 401-5184 | (360) 427-2652 | Jcookston@squaxin.us.
Stillaguamish Tribe of Indians of Washington | Megan Cooper, ICW Director | P.O. Box 3782, 24322 Di-Out-Sa, Arlington, WA 98223 | (360) 572-3547 | (360) 435-7824 | icw@stillaguamish.com.
Suquamish Indian Tribe of the Port Madison Reservation | Heather Zaiss, Tribal Child Welfare Director | P.O. Box 498, 18490 Suquamish Way, Suquamish, WA 98392 | (360) 900-7009 | (360) 697-6774 | hzaiss@suquamish.nsn.us.
Swinomish Indian Tribal Community | Tracy Parker, Swinomish Family Services Coordinator | 17337 Reservation Rd. LaConner, WA 98257 | (360) 466-7222 | (360) 466-1632 | tparker@swinomish.nsn.us.
Tulalip Tribes of Washington | Jennifer Walls, Lead ICW Worker | 2828 Mission Hill Road, Tulalip, WA 98271 | (360) 716-4046 | (360) 716-0382 | jwalls@tulaliptribes-nsn.gov.
Upper Skagit Indian Tribe | Felice Keegahn, Indian Child Welfare Coordinator | 25944 Community Plaza Way, Sedro Woolley, WA 98284 | (360) 854-7077 | (360) 854-7125 | felicek@upperskagit.com.

8. Pacific Region

Pacific Regional Director, BIA, Federal Building, 2800 Cottage Way, Room W-2820, Sacramento, CA 95825; Telephone Number: (916) 978-6000; Fax Number: (916) 978-6055.

Tribe | ICWA agent | Mailing address | Phone No. | Fax No. | Email address
Agua Caliente Band of Cahuilla Indians of the Agua Caliente Indian Reservation, California | Reid D. Milanovich, Chairman | 5401 Dinah Shore Drive, Palm Springs, CA 92264 | (760) 669-6877 | (760) 699-6865 | ACBCI_ICWA@aquacliente.net.
Alturas Indian Rancheria, California | Phillip Del Rosa | P.O. Box 340, Alturas, CA 96101 | (541) 941-2324 | (530) 223-4165 | air530@yahoo.com.
Augustine Band of Cahuilla Indians, California | Heather Haines, Tribal Operations Manager | P.O. Box 846, Coachella, CA 92236 | (760) 398-4722 | (760) 368-4252 | hhaines@augustinetribe.com.
Bear River Band of the Rohnerville Rancheria, California | Josefina Cortez, Chairwoman | 266 Keisner Rd., Loleta, CA 95551 | (707) 502-8731 | (707) 875-7229 | josefinacortez@brb-nsn.gov.
Berry Creek Rancheria of Maidu Indians of California | Kim Relph-Smith, ICWA Director/Social Worker | 5 Tyme Way, Oroville, CA 95966 | (530) 712-7137 | (530) 534-0343 | krsmith@berrycreekrancheria.com.
Big Lagoon Rancheria, California | Virgil Moorehead, Chairperson | P.O. Box 3060, Trinidad, CA 95570 | (707) 826-2079 | (707) 826-0495 | vmoorehead@earthlink.net.
Big Pine Paiute Tribe of the Owens Valley | Cheryl Levine, Tribal Administrator | P.O. Box 700, 825 S Main St. Big Pine, CA 93513 | (760) 938-2003 | (760) 938-2942 | c.levine@bigpinepaiute.org.
Big Sandy Rancheria of Western Mono Indians of California | Stephanie Casillas, Social Services Coordinator | P.O. Box 337, 37802 Jose Basin Road, Auberry, CA 93602 | (559) 374-0066 | (559) 855-5509 | sscoord@bsrnation.com.
Big Valley Band of Pomo Indians of the Big Valley Rancheria, California | ICWA Representative | ICWA, 2726 Mission Rancheria Road, Lakeport, CA 95453 | (707) 263-3924 | (707) 533-2941 | resparza@big-valley.net.
Bishop Paiute Tribe | Anonda Nelson, ICWA Specialist | 50 Tu Su Lane, Bishop, CA 93514 | (760) 873-7799 | (760) 873-3529 | Anonda.Nelson@bishoppaiute.org.
Blue Lake Rancheria, California | Claudia Brundin, Chairperson | P.O. Box 428, Blue Lake, CA 95525 | (707) 668-5101 | (707) 668-4272 | lalbright@bluelakerancheria-nsn.gov.
Bridgeport Indian Colony | John Glazier, Tribal Chair | 355 Sage Brush Drive, Bridgeport, CA 93517 | (760) 932-7083 | (760) 932-7846 | chair@bridgeportindiancolony.com.
Buena Vista Rancheria of Me-Wuk Indians of California | Christina Pimental, Receptionist | 1418 20th Street, Suite 200, Sacramento, CA 95811 | (916) 491-0011 | (916) 491-0012 | christina@BuenaVistaTribe.com.
Cabazon Band of Cahuilla Indians | Doug Welmas, Chairman | 84-245 Indio Springs Parkway, Indio, CA 92203 | (760) 342-2593 | (760) 347-7880 | nmarkwardt@cabazonindians-nsn.gov.
Cachil DeHe Band of Wintun Indians of the Colusa Indian Community of the Colusa Rancheria, California | Barbie Buchanan, Director of Community Services | 3730 Highway 45, Colusa, CA 95932 | (530) 458-6576 | (530) 458-8061 | bbuchanan@colusa-nsn.gov.
Cahto Tribe of the Laytonville Rancheria | Mary J. Norris, Chairperson | P.O. Box 1239, Laytonville, CA 95454 | (707) 984-6197 | (707) 984-6201 | chairman@cahto.org.
Cahuilla Band of Indians | Whitney Liera, Child and Family Services Specialist | 52701 CA-371, Anza, CA 92539-1760 | (951) 795-8672 | (951) 763-2808 | lieraw@cahuilla.net.
California Valley Miwok Tribe, California | Rashel Reznor, ICWA Coordinator | 14807 Avenida Central, La Grange, CA 95329 | (209) 931-4567 |  | office@cvmt.net.
Campo Band of Diegueno Mission Indians of the Campo Indian Reservation, California | Southern Indian Health Council, Danielle Espinoza | 4058 Willows Road, Alpine, CA 91901-1602 | (619) 445-1188 | (619) 659-9782 | despinoza@sihc.org.
Capitan Grande Band of Diegueno Mission Indians of California (Barona Group of Capitan Grande Band of Mission Indians of the Barona Reservation, California; Viejas (Baron Long) Group of Capitan Grande Band of Mission Indians of the Viejas Reservation, California) | Southern Indian Health Council, Danielle Espinoza | 4058 Willows Road, Alpine, CA 91901-1602 | (619) 445-1188 | (619) 659-9782 | despinoza@sihc.org.
Cedarville Rancheria, California | Richard Lash, Chairperson | 300 West 1st Street, Alturas, CA 96101 | (530) 233-3969 | (530) 233-4776 | cr.munholand@gmail.com.
Cher-Ae Heights Indian Community of the Trinidad Rancheria, California | Angela Sundberg, Social Services Director | P.O. Box 630, Trinidad, CA 95570 | (707) 677-0211 | (707) 677-3921 | asundberg@trinidadrancheria.com.
Chicken Ranch Rancheria of Me-Wuk Indians of California | Lloyd Mathiesen, Chairman | P.O. Box 1159, Jamestown, CA 95327 | (209) 984-9066 | (209) 984-5606 | chixrnch@mlode.com.
Cloverdale Rancheria of Pomo Indians of California | Patricia Mermosillo, Chairperson | 555 S Cloverdale Blvd., Cloverdale, CA 95425 | (707) 894-5775 | (707) 894-5727
Cold Springs Rancheria of Mono Indians of California | Desiree Lewis, Tribal Administrator | P.O. Box 209, 32861 Sycamore Road, Tollhouse, CA 93667 | (559) 214-1738 | (559) 855-4445 | Desiree.Lewis@coldspringsrancheria.gov.
Coyote Valley Band of Pomo Indians of California | Josephine “Josie” Pady, ICWA Coordinator | 7601 North State Street, Redwood Valley, CA 95470 | (707) 472-2242 | (707) 463-8956 | icwa@coyotevalley-nsn.gov.
Dry Creek Rancheria Band of Pomo Indians, California | Liz Elgin DeRouen, Executive Director | 2525 Cleveland Avenue, Suite H, Santa Rosa, CA 95403 | (707) 463-2644 | (707) 463-8956 | liz@icfppp.net.
Elem Indian Colony of Pomo Indians of the Sulphur Bank Rancheria, California | Augustin Garcia, Chairperson | P.O. Box 757, Lower Lake, CA 95457 | (707) 994-3400 | (707) 994-3408 | agarcia@elemindiancolony.com.
Elk Valley Rancheria, California | Dale Miller, Chairman | 2332 Howland Hill Rd, Crescent City, CA 95531 | (707) 464-4680 | (707) 464-4519 | swoods@elk-valley.com.
Enterprise Rancheria of Maidu Indians of California | Shari Goodwin (Ghalayini), ICWA Director | 2133 Montevista Avenue, Oroville, CA 95965 | (530) 532-9214 | (530) 532-1768 | sharig@enterpriserancheria.org.
Ewiiaapaayp Band of Kumeyaay Indians, California | Southern Indian Health Council, Danielle Espinoza | 4058 Willows Road, Alpine, CA 91901-1602 | (619) 445-1188 | (619) 659-9782 | despinoza@sihc.org.
Federated Indians of Graton Rancheria, California | Greg Sarris, Chairman | 6400 Redwood Drive—Suite 300, Rohnert Park, CA 94928 | (707) 566-2288 | (707) 566-2291
Fort Bidwell Indian Community of the Fort Bidwell Reservation of California | Kathi Mathys, Enrollment/ICWA Department Clerk | P.O. Box 129, Fort Bidwell, CA 96112 | (530) 537-0114 | (530) 537-0108 | kathi.mathys@fbicc.com.
Fort Independence Indian Community of Paiute Indians of the Fort Independence Reservation, California | Norman Wilder, Chairperson | P.O. Box 67 or 131 North Hwy 395, Independence, CA 93526 | (760) 878-5160 | (760) 878-2311 | receptionist@fortindependence.com.
Greenville Rancheria | Patty Allen, ICWA Coordinator | P.O. Box 279, Greenville, CA 95947 | (530) 284-7990 | (530) 284-7299 | pallen@greenvillerancheria.com.
Grindstone Indian Rancheria of Wintun-Wailaki Indians of California | Aaston V. Burrows, ICWA Coordinator | P.O. Box 63, 3600-13 Phil's Way, County Road 305, Elk Creek, CA 95939 | (530) 968-5365 | (530) 968-5366 | gir_enrollment_icwa@yahoo.com.
Guidiville Rancheria of California | Merlene Sanchez, Tribal Chairperson | P.O. Box 339, Talmage, CA 95481 | (707) 462-3682 | (707) 462-9183 | admin@guidiville.net.
Habematolel Pomo of Upper Lake, California | Laura Elizares, ICWA Advocate | 10250 Dewell Road Ext., P.O. Box 248, Upper Lake, CA 95485-0516 | (707) 900-6906 | (707) 883-3045 | icwa@hpultribe-nsn.gov.
Hoopa Valley Tribe, California | Joe Davis, Chairperson | P.O. Box 1348, Hoopa, CA 95546 | (530) 625-4211 | (530) 625-4594 | hoopa.receptionist@gmail.com.
Hopland Band of Pomo Indians, California | Josephine Loomis, ICWA Social Case Manager | 3000 Shanel Rd. Hopland, CA 95449 | (707) 472-2100 | (707) 744-8643 | jloomis@hoplandtribe.com.
Iipay Nation of Santa Ysabel, California | Linda Ruis, Social Services Director | Santa Ysabel Social Services Department, P.O. Box 701, Santa Ysabel, CA 92070 | (760) 765-0845 | (760) 765-0312 | lruis@iipaynation-nsn.gov.
Inaja Band of Diegueno Mission Indians of the Inaja and Cosmit Reservation, California | Social Services Manager | Indian Health Council, Inc., P.O. Box 406, Pauma Valley, CA 92061 | (760) 749-1410 | (760) 749-5518 | kkolb@indianhealth.com.
Ione Band of Miwok Indians of California | Sara A. Dutschke, Chairperson | P.O. Box 699, Plymouth, CA 95669 | (209) 245-5800 | (209) 245-6377 | info@ionemiwok.net.
Jackson Band of Miwuk Indians | Adam Dalton, Chairperson | P.O. Box 1090, Jackson, CA 95642 | (209) 223-1935 | (209) 223-5366 | mmorla@jacksoncasino.com.
Jamul Indian Village of California | Southern Indian Health Council, Danielle Espinoza | 4058 Willows Road, Alpine, CA 91901-1602 | (619) 445-1188 | (619) 659-9782 | despinoza@sihc.org.
Karuk Tribe | Merris Obie, CWS-ICWA Director | P.O. Box 1207, 325 Asipn Road, Yreka, CA 96097 | (530) 627-3452 | (530) 493-2201 | mobie@karuk.us.
Kashia Band of Pomo Indians of the Stewarts Point Rancheria, California | Liz Elgin DeRouen, Executive Director | 2525 Cleveland Avenue, Suite H, Santa Rosa, CA 95403 | (707) 463-2644 | (707) 463-8956 | liz@icfpp.net.
Kletsel Dehe Wintun Nation of the Cortina Rancheria | Charlie Wright; Nicole Carl, Chairman; Social Services Director | P.O. Box 1630, Williams, CA 95987 | (530) 419-5058 | (530) 387-3109 | charlie.wright@kdwn.org.
Koi Nation of Northern California | Darin Beltran, Chairperson | P.O. Box 3162, Santa Rosa, CA 95402 | (707) 575-5586 | (707) 575-5506
La Jolla Band of Luiseno Indians, California | Social Services Manager | Indian Health Council, Inc., P.O. Box 406, Pauma Valley, CA 92061 | (760) 749-5518 | (707) 749-5518 | kkolb@indianhealth.com.
La Posta Band of Diegueno Mission Indians of the La Posta Indian Reservation, California | Southern Indian Health Council, Danielle Espinoza | 4058 Willows Road, Alpine, CA 91901-1602 | (619) 445-1188 | (619) 659-9782 | despinoza@sihc.org.
Lone Pine Paiute-Shoshone Tribe | Richard Button & Kathy Brancroft, Chairperson & Enrollment Committee Chairperson | P.O. Box 747, Lone Pine, CA 93545 | (760) 876-1034 | (760) 876-4500 | chair@lppsr.org.
Los Coyotes Band of Cahuilla and Cupeno Indians, California | Social Services Manager | Indian Health Council, Inc., P.O. Box 406, Pauma Valley, CA 92061 | (760) 749-1410 | (760) 749-5518 | kkolb@indianhealth.com.
Lytton Rancheria of California | Liz Elgin DeRouen, Executive Director | 2525 Cleveland Avenue, Suite H, Santa Rosa, CA 95403 | (707) 463-2644 | (707) 463-8956 | liz@icfpp.net.
Manchester Band of Pomo Indians of the Manchester Rancheria, California | Liz Elgin DeRouen, Executive Director | 2525 Cleveland Avenue, Suite H, Santa Rosa, CA 95403 | (707) 463-2644 | (707) 463-8956 | liz@icfpp.net.
Manzanita Band of Diegueno Mission Indians of the Manzanita Reservation, California | Angela Elliott Santos, Chairperson | P.O. Box 1302, Boulevard, CA 91905 | (619) 766-4930 | (619) 766-4957 | ljbirdsinger@aol.com.
Mechoopda Indian Tribe of Chico Rancheria, California | Dennis Ramirez, Chairman | 125 Mission Ranch Boulevard, Chico, CA 95926 | (530) 899-8922 | (530) 899-8517 | mit@mechoopda-nsn.gov.
Mesa Grande Band of Diegueno Mission Indians of the Mesa Grande Reservation, California | Social Services Manager | Indian Health Council, Inc., P.O. Box 406, Pauma Valley, CA 92061 | (760) 749-1410 | (760) 749-5518 | kkolb@indianhealth.com.
Middletown Rancheria of Pomo Indians of California | Ursula Simon, ICWA Director/Youth Coordinator | P.O. Box 1829, Middletown, CA 95461 | (707) 531-0378 | (707) 987-9091 | usimon@middletownrancheria.com.
Mooretown Rancheria of Maidu Indians of California | Benjamin Clark, Chairman | 1 Alverda Drive, Oroville, CA 95966 | (530) 533-3625 | (530) 533-3680 | lwinner@mooretown.org.
Morongo Band of Mission Indians, California | Legal Department | 12700 Pumarra Road, Banning, CA 92220 | (951) 849-4697 | (951) 572-6108 | legal@morongo-nsn.gov.
Northfork Rancheria of Mono Indians of California | Elaine Bethel Fink & Tawanish Lavell, Chairperson & ICWA Representative | P.O. Box 929, North Fork, CA 93643 | (559) 877-2461 | (559) 877-2467 | nfrancheria@northforkrancheria-nsn.gov.
Pala Band of Mission Indians | Robert Smith, Chairman | 35008 Pala-Temecula Road—PMB-50, Pala, CA 92059 | (760) 891-3500 | (760) 891-3587 | morozco@palatribe.com.
Paskenta Band of Nomlaki Indians of California | Natasha Magana, Tribal Member at Large | P.O. Box 709, Corning, CA 96021 | (530) 528-3538 | (530) 528-3553 | office@paskenta.org.
Pauma Band of Luiseno Mission Indians of the Pauma & Yuima Reservation, California | Social Services Manager | Indian Health Council, Inc., P.O. Box 406, Pauma Valley, CA 92061 | (760) 749-1410 | (760) 749-5518 | kkolb@indianhealth.com.
Pechanga Band of Indians | Esmeralda Lomeli, Director of Pechanga Child & Family Services | 12705 Pechanga Road, Temecula, CA 92592 | (951) 770-6106 | (951) 693-5543 | pcfs@pechanga-nsn.gov.
Picayune Rancheria of Chukchansi Indians of California | Orianna C. Walker, ICWA Director | P.O. Box 2226, Oakhurst, CA 93644 | (559) 412-5590 | (559) 440-6494 | owalker@chukchansitribe.net.
Pinoleville Pomo Nation, California | Clayton Freeman, ICWA Coordinator | 500 B Pinoleville Drive, Ukiah, CA 95482 | (707) 463-1454 | (707) 463-6601 | claytonf@pinoleville-nsn.gov.
Pit River Tribe, California (includes XL Ranch, Big Bend, Likely, Lookout, Montgomery Creek, and Roaring Creek Rancherias) | Gilda Chibante, ICWA Coordinator | 36970 Park Avenue, Burney, CA 96013 | (530) 335-5421 | (530) 335-3140 | icwa@pitrivertribe.gov.
Potter Valley Tribe, California | Salvador Rosales, Chairman | 2251 South State Street, Ukiah, CA 95482 | (707) 462-1213 | (707) 462-1240 | pottervalleytribe@pottervalleytribe.com.
Pulikla Tribe of Yurok People | Fawn Murphy, Chairperson | P.O. Box 529, Klamath, CA 95548 | (707) 482-2431 | (707) 482-3425 | fawn.murphy@resighinirancheria.com.
Quartz Valley Indian Community of the Quartz Valley Reservation of California | Conrad Croy, ICWA Director | 13601 Quartz Valley Rd., Fort Jones, CA 96032 | (530) 468-5907 | (530) 468-5908 | Conrad.Croy@qvir-nsn.gov.
Ramona Band of Cahuilla, California | Joseph Hamilton, Chairman | P.O. Box 391670, Anza, CA 92539 | (951) 763-4105 | (951) 763-4325
Redding Rancheria, California | Jack Potter, Jr., Chairman | 2000 Redding Rancheria Road, Redding, CA 96001-5528 | (530) 225-8979 |  | hopew@redding-rancheria.com.
Redwood Valley or Little River Band of Pomo Indians of the Redwood Valley Rancheria California | Chris Piekarski, ICWA Coordinator | 3250 Road I “B” Building, Redwood Valley, CA 95470 | (707) 485-0361 | (707) 485-5726 | icwa@rvrpomo.net.
Rincon Band of Luiseno Mission Indians of Rincon Reservation, California | Social Services Manager | Indian Health Council, Inc., P.O. Box 406, Pauma Valley, CA 92061 | (760) 749-1410 | (760) 749-5518 | kkolb@indianhealth.com.
Robinson Rancheria | Marsha Lee, ICWA Coordinator | P.O. Box 4015, Nice, CA 95464 | (707) 900-1456 | (707) 275-0235
Round Valley Indian Tribes, Round Valley Reservation, California | James Russ, President | 77826 Covelo Road, Covelo, CA 95428 | (707) 983-6126 | (707) 983-6128 | president@council.rvit.org.
San Pasqual Band of Diegueno Mission Indians of California | Social Services Manager | Indian Health Council, Inc., P.O. Box 406, Pauma Valley, CA 92061 | (760) 749-1410 | (760) 749-5518 | kkolb@indianhealth.com.
Santa Rosa Band of Cahuilla Indians, California | Steven Estrada, Chairperson | P.O. Box 391820, Anza, CA 92539 | (951) 659-2700 | (951) 689-2228 | srtribaloffice@aol.com.
Santa Rosa Indian Community of the Santa Rosa Rancheria, California | Corina Villarreal, Director, Santa Rosa Rancheria Tachi Yokut Tribal Social Services | P.O. Box 8, 16835 Alkali Drive, Lemoore, CA 93245 | (559) 924-1278 | (559) 925-2931 | cvillarreal@tachi-yokut-nsn.gov.
Santa Ynez Band of Chumash Mission Indians of the Santa Ynez Reservation, California | Caren Romero, ICWA Representative | P.O. Box 539, 90 Via Juana Lane, Santa Ynez, CA 93460 | (805) 694-2671 | (805) 694-2771 | cromero@sythc.org.
Scotts Valley Band of Pomo Indians of California | Ms. Katie Ray, Victim Services and Programs Manager | 804 11th Street, Lakeport, CA 95453 | (707) 349-8996 |  | katie.ray@sv-nsn.gov.
Sherwood Valley Rancheria of Pomo Indians of California | Melanie Rafanan and Travis Wright, Tribal Chairperson and ICWA Advocate | 190 Sherwood Hill Drive, Willits, CA 95490 | (707) 459-9690 | (707) 459-6936 | mrafanan@sherwoodband.com.
Shingle Springs Band of Miwok Indians, Shingle Springs Rancheria (Verona Tract), California | Regina Cuellar, Chairwoman | P.O. Box 1340, Shingle Springs, CA 95682 | (530) 698-1400 | (530) 384-8064 | tribalchairperson@ssband.org.
Soboba Band of Luiseno Indians, California | Alicia Golchuk, Director of Soboba Tribal Family Services | Soboba Tribal Family Services Dept., P.O. Box 487 San Jacinto, CA 92581 | (951) 487-0283 | (951) 487-1738 | agolchuk@soboba-nsn.gov.
Susanville Indian Rancheria, California | Arian Hart, Chairman | 745 Joaquin Street, Susanville, CA 96130 | (530) 257-6264 | (530) 257-7986 | tribal.chairman@sir-nsn.gov.
Sycuan Band of the Kumeyaay Nation | Cody Martinez, Chairman | 1 Kwaaypaay Court, El Cajon, CA 92019 | (619) 445-2613 | (619) 445-1927
Table Mountain Rancheria | Leanne Walker-Grant, Chairperson | P.O. Box 410, Friant, CA 93626 | (559) 822-2587 | (559) 822-2693
Tejon Indian Tribe | Octavio Escobedo, Chairperson | 1731 Hasti Acres, Suite 108, Bakersfield, CA 93309 | (661) 834-8566 | (661) 834-8564 | office@tejontribe.net.
Timbisha Shoshone Tribe | Wallace Eddy, ICWA Representative | 621 West Line Street, Suite 109, Bishop, CA 93514 | (760) 872-3614 | (760) 872-3670 | icwa@timbisha.com.
Tolowa Dee-ni' Nation | Teela James, Director, Community and Family Wellness | Community & Family Services, 140 Rowdy Creek Road, Smith River, CA 95567 | (707) 487-9255 | (888) 467-5406 | teela.james@tolowa.com.
Torres Martinez Desert Cahuilla Indians, California | Thomas Tortez, Chairman | TMDCI 66-725 Martinez Rd., P.O. Box 1160, Thermal, CA 92274 | (760) 397-0300 | (760) 397-8300 | thomas.tortez@torresmartinez-nsn.gov.
Tule River Indian Tribe of the Tule River Reservation, California | Neil Peyron, Chairman | 340 North Reservation Road, P.O. Box 589, Porterville, CA 93258 | (559) 781-4271 | (559) 781-4610 | Neil.Peyron@tulerivertribe-nsn.gov.
Tuolumne Band of Me-Wuk Indians of the Tuolumne Rancheria of California | Diane Carpenter, LMFT, ICWA Representative/Supervisor, Social Services Department | P.O. Box 699, Tuolumne, CA 95379 | (209) 928-5327 | (209) 928-1552 | diana@mewuk.com.
Twenty-Nine Palms Band of Mission Indians of California | Darrel Mike, Spokesman | 46-200 Harrison Place, PO Box 2269, Coachella, CA 92236 | (760) 863-2444 | (760) 863-2449
United Auburn Indian Community of the Auburn Rancheria of California | Gene Whitehouse, Chairman | 10720 Indian Hill Road, Auburn, CA 95603 | (530) 883-2390 | (530) 833-2380 | jbeck@auburnrancheria.com.
Utu Utu Gwaitu Paiute Tribe of the Benton Paiute Reservation, California | Shane Salque, Chairman | 25669 Hwy. 6, PMB 1, Benton, CA 93512 | (760) 933-2321 | (760) 933-2412 | shanesalque@hotmail.com.
Wilton Rancheria, California | Cheryl Douglas, Executive Director | Indian Child Welfare Department, 9728 Kent Street, Elk Grove, CA 95624 | (916) 683-6000 | (916) 683-6015 | cdouglas@wiltonrancheria-nsn.gov.
Wiyot Tribe, California | Theodore Hernandez, Chairperson | 1000 Wiyot Drive, Loleta, CA 95551 | (707) 733-5055 | (707) 733-5601 | rpitts@wiyot.us.
Yocha Dehe Wintun Nation, California | James Kinter, Tribal Council Secretary | P.O. Box 18, Brooks, CA 95606 | (530) 796-3400 | (530) 796-2143 | icwa@yochadehe.gov.
Yuhaaviatam of San Manuel Nation | Corey Silva, Tribal Secretary | 26569 Community Center Drive, Highland, CA 92346 | (909) 864-8933 | (909) 864-0890 | Corey.Silva@sanmanuel-nsn.gov.
Yurok Tribe of the Yurok Reservation, California | Jessica Fawn Canez, Tribal Child Welfare and Behavioral Health Director | P.O. Box 1027, Klamath, CA 95548 | (707) 482-1350 | (707) 482-1368 | YurokICWA@yuroktribe.nsn.us.

9. Rocky Mountain Region

Rocky Mountain Regional Director, 2021 4th Ave. N, Billings, MT 59101; Telephone Number: (406) 247-7943; Fax Number: (406) 247-7976.

Tribe | ICWA agent | Mailing address | Phone No. | Fax No. | Email address
Assiniboine and Sioux Tribes of the Fort Peck Indian Reservation, Montana | Danna Runs Above, ICWA Coordinator | P.O. Box 1027, Poplar, MT 59255 | (406) 768-2398 | (406) 768-5658 | danna.runsabove@fortpecktribes.net.
Blackfeet Tribe of the Blackfeet Indian Reservation of Montana | Kathy Calf Boss Ribs, ICWA Coordinator | P.O. Box 588, Browning, MT 59417 | (406) 338-5171 | (406) 338-7726 | kcalfbossribs@blackfeetnation.com.
Chippewa Cree Indians of the Rocky Boy's Reservation, Montana | Shaneen Hammond, Social Service Director | 96 Clinic Road No., Box Elder, MT 59521 | (406) 395-4092 | (406) 395-4042 | shaneen@chippewa-cree.org.
Crow Tribe of Montana | Rebecca Buffalo, ICWA CONTACT | P.O. Box 340, Crow Agency, MT 59022 | (406) 679-2950 |  | Rebecca.buffalo@crow-nsn.gov.
Eastern Shoshone Tribe of the Wind River Reservation, Wyoming | Dallas Condo, ICWA Agent | P.O. Box 945, Fort Washakie, WY 82514 | (307) 332-6591 | (307) 332-6593
Fort Belknap Indian Community of the Fort Belknap Reservation of Montana | Myron L. Trottier, ICWA Case Manager | 656 Agency Main Street, Harlem, MT 59526 | (406) 353-8328 | (406) 353-4634 | mtrottier@ftbelknap.org.
Little Shell Tribe of Chippewa Indians of Montana | Edith Colman, ICWA Case Manager | 511 Central Ave. West, Great Falls, MT 59404 | (406) 315-2400 | (406) 315-2401 | e.colman@lstribe.org.
Northern Arapaho Tribe of the Wind River Reservation, Wyoming | Shelley Mbonu, ICWA Director | P.O. Box 951, Riverton, WY 82501 | (307) 335-3957 | (307) 240-2256 | shelley.mbonu@northernarapaho.com.
Northern Cheyenne Tribe of the Northern Cheyenne Indian Reservation, Montana | Alaina Buffalo Spirit, ICWA Coordinator II | P.O. Box 128, Lame Deer, MT 59043 | (406) 477-4830 | (406) 477-8333 | alaina.buffalospirit@cheyennenation.com.

10. Southern Plains Region

Southern Plains Regional Director, P.O. Box 368, Anadarko, OK 73005; Telephone Number: (405) 247-6673 Ext. 217; Fax Number (405) 247-5611.

Tribe | ICWA agent | Mailing address | Phone No. | Fax No. | Email address
Absentee-Shawnee Tribe of Indians of Oklahoma | Shawnee Martinez, ICW Director | 2025 South Gordon Cooper Drive, Shawnee, OK 74801 | (405) 395-4490 | (405) 395-4495 | icw@astribe.com.
Alabama-Coushatta Tribe of Texas | Melissa Celestine, ICW Director | 571 State Park Road, #56, Livingston, TX 77351 | (936) 563-1253 | (936) 563-1254 | celestine.melissa@actribe.org.
Apache Tribe of Oklahoma | ICW Director, Apache ICW Worker | P.O. Box 309, Carnegie, OK 73015 | (580) 654-6340 |  | icw@kiowatribe.org.
Caddo Nation of Oklahoma | Kathy Butler, ICW | P.O. Box 487, Binger, OK 73009 | (405) 656-2344 |  | kbutler@mycaddonation.com.
Cheyenne and Arapaho Tribes, Oklahoma | Kylee Wilson, ICW Coordinator | P.O. Box 27, Concho, OK 73022 | (405) 422-7459 | (405) 422-8249 | Kwilson@cheyenneandarapaho-nsn.gov.
Citizen Potawatomi Nation, Oklahoma | Ashlee May, ICW Director | 1601 S. Gordon Cooper Drive, Shawnee, OK 74801 | (405) 878-4831 | (405) 878-4659 | Ashlee.may@potawatomi.org.
Comanche Nation, Oklahoma | Blake Ashlynn, ICW Director | P.O. Box 908, Lawton, OK 73502 | (580) 492-1140 |  | Blake.Ashlynn@comanchenation.com.
Delaware Nation, Oklahoma | Sylvia Pinter, Social Services Director | P.O. Box 825, Anadarko, OK 73005 | (405) 247-2448 | (405) 247-5942 | spitner@delawarenation-nsn.gov.
Fort Sill Apache Tribe of Oklahoma | ICWA Coordinator | 43187 US Highway 281, Apache, OK 73006 | (580) 588-2298
Iowa Tribe of Kansas and Nebraska | Cina Akidawe—Family Services, Peggy Libel | 3313B Thrasher Rd., White Cloud, KS 66094 | (785) 595-3260 |  | plibel@iowas.org.
Iowa Tribe of Oklahoma | Amanda Farren, ICW Director | 335588 E 750 Rd., Perkins, OK 74059 | (405) 547-4291 | (405) 547-1060 | afarren@iowanation.org.
Kaw Nation, Oklahoma | Nicholas Coble, ICW Caseworker | Drawer 50, Kaw City, OK 74641 | (580) 269-2003 | (580) 269-2113 | ncoble@kawnation.com.
Kickapoo Traditional Tribe of Texas | ICWA Director, ICW Director | 2212 Rosita Valley Road, Eagle Pass, TX 78852 | (830) 773-2105
Kickapoo Tribe of Indians of the Kickapoo Reservation in Kansas | ICWA Director, ICWA Director | 824 111th Dr., Horton, KS 66439 | (785) 285-9190
Kickapoo Tribe of Oklahoma | ICW Director, Indian Child Welfare Director | P.O. Box 469, McLoud, OK 74851 | (405) 964-4227 | (405) 964-5431
Kiowa Indian Tribe of Oklahoma | Davetta Geimausaddle, ICW Director | P.O. Box 369, Carnegie, OK 73015 | (580) 654-6341 |  | ICW@kiowatribe.org.
Otoe-Missouria Tribe of Indians, Oklahoma | Andrea Kihega, Social Services Director | 8151 Highway 177, Red Rock, OK 74651 | (580) 723-4466 | (580) 352-6065 | akihega@omtribe.org.
Pawnee Nation of Oklahoma | Randy Marks, ICWA Director | P.O. Box 470, Pawnee, OK 74058 | (918) 762-9779 |  | rm0533@pawneenation.org.
Ponca Tribe of Indians of Oklahoma | Jamie Metcalf, ICW Director | 101 White Eagle, Ponca City, OK 74601 | (580) 463-0133 | (580) 763-0134 | Jamie.metcalf@ponca-nsn.gov.
Prairie Band Potawatomi Nation | Sarah Cowan, ICW Director | 16281 Q. Road, Mayetta, KS 66509 | (785) 966-8325 | (785) 966.290 | SarahCowan@pbpnation.org.
Sac and Fox Nation of Missouri in Kansas and Nebraska | ICW Director | 305 N Main Street, Reserve, KS 66434 | (785) 742-4708 | (785) 288-1163
Sac and Fox Nation, Oklahoma | Karen Hamilton, ICW Director | 215 North Harrison, Box 246, Shawnee, OK 74801 | (918) 968-3526 | (405) 395-0858 | karen.hamilton@sacandfoxnation-nsn.gov.
Tonkawa Tribe of Indians of Oklahoma | Christi Gonzalez, ICW Director | 1 Rush Buffalo Road, Tonkawa, OK 74653 | (580) 628-7025 | (580) 628-7025 | cgonzalez@tonkwatribe.com.
Wichita and Affiliated Tribes (Wichita, Keechi, Waco & Tawakonie), Oklahoma | Joan Williams, ICW Director | P.O. Box 729, Anadarko, OK 73005 | (405) 247-8627 | (405) 247-3256 | joan.williams@wichitatribe.com.

11. Southwest Region

Southwest Regional Director, 1001 Indian School Road NW, Albuquerque, NM 87104; Telephone Number: (505) 563-3103; Fax Number: (505) 563-3101.

Tribe | ICWA agent | Mailing address | Phone No. | Fax No. | Email address
Jicarilla Apache Nation, New Mexico | Olivia Lacero Nelson, Jicarilla Apache Nation ICWA Program Manager | P.O. Box 1520, Dulce, NM 87528 | (575) 759-1712 |  | onelson@jbhd.org.
Mescalero Apache Tribe of the Mescalero Reservation, New Mexico | Bryan Shendo, Tribal Administrator | 108 Central Ave., P.O. Box 227, Mescalero, NM 88340 | (575) 464-4494 |  | bshendo@mescaleroapachetribe.com.
Ohkay Owingeh, New Mexico | Kerri Trujillo, Social Service Manager | P.O. Box 1187, 220 Popay Avenue, Ohkay Owingeh, NM 87566 | (505) 852-4400 | (505) 852-4820 | kerritr@gmail.com.
Pueblo of Acoma, New Mexico | Marsha Vallo/Tiffany Velasquez, Director/Child Welfare Specialist | P.O. Box 354, Acoma, NM 87034 | (505) 552-5162 | (505) 552-0903 | mlvallo@poamail.org.
Pueblo of Cochiti, New Mexico | Amanda Rosetta, Interim Director, of Family Services/Tribal Court Administrator | P.O. Box 255, Cochiti Pueblo, NM 87072 | (505) 249-0601 | (505) 465-3173 | Amanda.rosetta@cochiti.org.
Pueblo of Isleta, New Mexico | Jacqueline Yalch, Social Services Director | P.O. Box 1270, Isleta, NM 87022 | (505) 869-2772 | (505) 869-7575 | Jacqueline.Yalch@isletapueblo.com.
Pueblo of Jemez, New Mexico | Annette Gachupin, Child Advocate | P.O. Box 340, Jemez Pueblo, NM 87024 | (575) 834-7117 | (575) 834-7103 | agachupin@jemezpueblo.us.
Pueblo of Laguna, New Mexico | Tracy Zamora, Social Service Program Manager | Social Services Department, P.O. Box 194, Laguna, NM 87026 | (505) 552-6513 | (505) 552-6387 | tzamora@pol-nsn.gov.
Pueblo of Nambe, New Mexico | Julie Bird, ICWA Manager | 15A NP 102 West, Santa Fe, NM 87506 | (505) 445-4446 | (505) 455-4449 | ICWA@nambepueblo.org.
Pueblo of Picuris, New Mexico | Rachael Pyne, Health Administrator | P.O. Box 127, Penasco, NM 87553 | (575) 587-2519 | (575) 587-1003 | icwa@picurispueblo.org.
Pueblo of Pojoaque, New Mexico | Melody Fernandez and Leanna Aragon, Director/Child Welfare Specialist | 58 Cities of Gold Road, Suite 5, Santa Fe, NM 87506 | (505) 455-0238 | (505) 455-2363 | amalone@pojoaque.org.
Pueblo of San Felipe, New Mexico | Darlene J. Valencia and Chasity Sanchez, Family Services Director/ICWA Representative. Child Welfare Worker | P.O. Box 4339, San Felipe Pueblo, NM 87001 | (505) 771-9900 | (505) 771-9978 | dvalencia@sfpueblo.com.
Pueblo of San Ildefonso, New Mexico | Lenora Arrietta, ICWA Manager/Family Advocate | 02 Tunyo Po, Santa Fe, NM 87506 | (505) 455-4164 | (505) 455-7351 | icwamanager@sanipueblo.org.
Pueblo of Sandia, New Mexico | Cynthia Urban. Healing to Wellness Coordinator | 481 Sandia Loop, Bernalillo, NM 87004 | (505) 771-5005 |  | curban@sandiapueblo.nsn.us.
Pueblo of Santa Ana, New Mexico | Mariam Campos-Marquetti, Director, Health and Human Services | 02 Dove Road, Santa Ana Pueblo, NM 87004 | (505) 967-9791 |  | Mariam.campos-marquetti@santaana-nsn.gov.
Pueblo of Santa Clara, New Mexico | Terri Chavarria or Ann F. Gutierrez, Director of Social Services/Office Manager | P.O. Box 580, Espanola, NM 87532 | (505) 753-0419 | (505) 753-0420 | tchavarria@santaclarapueblo.org.
Pueblo of Taos, New Mexico | Ezra Bayles, Director | P.O. Box 1846, Taos, NM 87571 | (575) 758-7824 | (575) 758-3346 | ebayles@taospueblo.com.
Pueblo of Tesuque, New Mexico | Donna Quintana, ICW Case Manager | 20 TP 828, Santa Fe, NM 87506 | (505) 955-7715 | (505) 820-7781 | donna.quintana@pueblooftesuque.org.
Pueblo of Zia, New Mexico | Kristin Lucero, Lead Social Services Specialist/ICWA Representative | 135 Capital Square Drive, Zia Pueblo, NM 87053-6013 | (505) 337-2138 | (505) 867-3308 | socialservices@ziapueblo.org.
Santo Domingo Pueblo | Doris Mina & Virginia Tenorio, Director & ICWA Worker | P.O. Box 129, Santo Domingo, NM 87052 | (505) 465-0630 | (505) 465-2544 | Virginia.Tenorio@kewa-nsn.us.
Southern Ute Indian Tribe of the Southern Ute Reservation, Colorado | Holly Stooksbury, Social Worker | MS 53 P.O. Box 737, Ignacio, CO 81137 | (970) 563-2332 | (970) 563-4854 | icwa@southernute-nsn.gov.
Ute Mountain Ute Tribe | Janet Silversmith, ICWA Case Worker | P.O. Box 309, Towaoc, CO 81334 | (970) 749-9186 |  | jsilversmith@utemountain.org.
Ysleta del Sur Pueblo | Isabel Pineira, LMSW, and Elizabeth Palyu, LCSW-S Director of Behavioral Health, Social Services Coordinator | 9473 Socorro Rd., El Paso, TX 79907 | (915) 860-6170 | (915) 271-5267 | jpineira@ydsp-nsn.gov.
Zuni Tribe of the Zuni Reservation, New Mexico | Mikaela Epaloose, ICWA Worker | 1203B State Hwy 53; P.O. Box 339, Zuni, NM 87327 | (505) 782-7167 | (505) 782-7221 | mikaela.epaloose@ashiwi.org.

12. Western

Western Regional Director, 2600 North Central Avenue, 4th Floor Mailroom, Phoenix, AZ 85004; Telephone: (602) 379-6600; Fax Number: (602) 379-4413.

Tribe | ICWA agent | Mailing address | Phone No. | Fax No. | Email address
Ak-Chin Indian Community | Dorissa R. Garcia, Enrollment Coordinator | 42507 West Peters & Nall Road, Maricopa, AZ 85138 | (520) 568-1074 | (520) 568-1079 | dgarcia@ak-chin.nsn.us.
Chemehuevi Indian Tribe of the Chemehuevi Reservation, California | Sheila Nau, ICWA Director | P.O. Box 1970, Havasu Lake, CA 92363 | (760) 284-3929 | (760) 858-5428 | icwa@cit-nsn.gov.
Cocopah Tribe of Arizona | Rafael D. Morales, Jr., ICWA Specialist | 14515 South Veterans Drive, Somerton, AZ 85350 | (928) 627-3729 | (928) 627-3316 | moralesr@cocopah.gov.
Colorado River Indian Tribes of the Colorado River Indian Reservation, Arizona and California | Rebecca Loudbear, Attorney General | 26600 Mohave Road, Parker, AZ 85344 | (928) 669-1271 | (928) 669-5675 | rebecca.loudbear@crit-nsn.gov.
Confederated Tribes of the Goshute Reservation, Nevada and Utah | Jeanine Hooper, Social Services/ICWA Director | HC 61 Box 6104, Ibapah, UT 84034 | (435) 234-1138 | (435) 234-1219 | jeanine.hooper@ctgr.us.
Duckwater Shoshone Tribe | Debbie O'Neil, Social Services Director/Tribal Chairwoman | P.O. Box 140068, Duckwater, NV 89314-0087 | (775) 863-0222 | (775) 863-0142 | debbie.o'neil@ihs.gov.
Ely Shoshone Tribe of Nevada | Georgia Valdez, Social Services Worker | 505 South Pioche Hwy., Ely, NV 89301 | (775) 289-3013 | (775) 289-3833 | valdezg@elyshoshonetribe.com.
Fort McDermitt Paiute and Shoshone Tribes of the Fort McDermitt Indian Reservation, Nevada and Oregon | Gloria Thomas, Social Service Director | 111 North Reservation Road, McDermitt, NV 89421 | (775) 532-8259 | (775) 532-8060 | gloria.thomas@fmpst.org.
Fort McDowell Yavapai Nation, Arizona | Devonna Montgomery, CPS/APS/ICWA Coordinator | 16240 North Fort McDowell Road, Fort McDowell, AZ 85269 | (480) 973-9529 | (480) 837-4809 | demontgomery@fmyn.org.
Fort Mojave Indian Tribe of Arizona, California & Nevada | Cornel Williams Jr., Director of Social Services | 1591 Plantation Road, Mohave Valley, AZ 86440 (Physcial), 500 Merriman Avenue, Needles, CA 92363 | (928) 346-1550 | (928) 346-1552 | cornel.williams@fortmojave.com.
Gila River Indian Community of the Gila River Indian Reservation, Arizona | Christina R. Lopez, LMSW, Child & Family Welfare Administrator | P.O. Box 427, Sacaton, AZ 85147 | (520) 562-3396 | (520) 562-3633 | christina.lopez@gric.nsn.us.
Havasupai Tribe of the Havasupai Reservation, Arizona | Yvonne Jones, Acting ICWA Director | P.O. Box 10, Supai, AZ 86435 | (928) 433-8153 | (928) 433-8130 | htsservice1@havasupai-nsn.gov.
Hopi Tribe of Arizona | Elizabeth Poseyesva, Department of Hopi Social Services Director | P.O. Box 123, Kykotsmovi, AZ 86039 | (928) 734-3000 |  | Eposeyesva@hopi.nsn.us.
Hualapai Indian Tribe of the Hualapai Indian Reservation, Arizona | Idella Keluche, ICWA Coordinator | 321 Shady Lane, Peach Springs, AZ 86434 | (928) 769-2389 | (928) 769-2659 | ikeluche@hualapai-nsn.gov.
Kaibab Band of Paiute Indians of the Kaibab Indian Reservation, Arizona | Jennie K. Kalauli, Social Services Director | HC 65 Box 2, Fredonia, AZ 86022 | (928) 643-8320 | (888) 422-4037 | jkalauli@kaibabpaiute-nsn.gov.
Las Vegas Tribe of Paiute Indians of the Las Vegas Indian Colony, Nevada | Fabian Solis, Health & Human Service Director | 1257 Paiute Circle, Las Vegas, NV 89106 | (702) 382-0784 | (702) 384-5272 | fsolis@lvpaiute.com.
Lovelock Paiute Tribe of the Lovelock Indian Colony, Nevada | Maribel Morales, ICWA/GA Caseworker | P.O. Box 878, 310 Sawabe Drive, Unit B, Lovelock, NV 89419 | (775) 217-0461 |  | icwa@lovelocktribe.com.
Moapa Band of Paiute Indians of the Moapa River Indian Reservation, Nevada | Sheradynn “Sherry” Pitts, Enrollment Clerk | 1 Lincoln Street, Moapa, NV 89025 | (702) 865-2790 | (702) 865-2078 | enrollment@moapahbandofpaitues.org.
Paiute Indian Tribe of Utah (Cedar Band of Paiutes, Kanosh Band of Paiutes, Koosharem Band of Paiutes, Indian Peaks Band of Paiutes, and Shivwits Band of Paiutes) | Tamra Borchardt-Slayton, Puow'wan Program Manager | 440 North Paiute Drive, Cedar City, UT 84721 | (435) 586-1112 | (435) 238-4261 | icwa@pitu.gov.
Paiute-Shoshone Tribe of the Fallon Reservation and Colony, Nevada | Michelle Grace, Social Services Manager | 1007 Rio Vista Drive, Fallon, NV 89406 | (775) 423-1215 | (775) 423-8960 | yfsadmin@fpst.org.
Pascua Yaqui Tribe of Arizona | Marissa R. Quiroz, ICWA Paralegal | Office of the Attorney General—ICWA Unit, 7777 S. Camino Huivism—Bldg. C, Tucson, AZ 85757 | (520) 883-5113 | (520) 883-5084 | Marissa.Quiroz2@pascuayaqui-nsn.gov.
Pyramid Lake Paiute Tribe of the Pyramid Lake Reservation, Nevada | Barbara Bennett, Director of Human Services | P.O. Box 256, Nixon, NV 89424 | (775) 574-1047 | (775) 574-2010 | bbennett@plpt.nsn.us.
Quechan Tribe of the Fort Yuma Indian Reservation, California & Arizona | Barbara J. Blue White—ICWA Specialist, Anthony N. Medel—Social Service Director | P.O. Box 1899, Yuma, AZ 85366-1899, 465 Picacho Road, Trailer B, Winterhaven, CA. 92283, Yuma, AZ 85366-1899 | (928) 919-3304 | (760) 572-2099 | icwaspecialist@quechantribe.com.
Reno-Sparks Indian Colony, Nevada | Anissa Sabori, Human Services Manager | 405 Golden Lane, Reno, NV 89502 | (775) 329-5071 | (775) 785-8758 | asabori@rsic.org.
Salt River Pima-Maricopa Indian Community of the Salt River Reservation, Arizona | Allison Miller, ICWA Manager | SRPMIC Social Services/ICWA Unit, 10005 East Osborn Road, Scottsdale, AZ 85256 | (480) 362-5645 | (480) 362-5574 | allison.miller@srpmic-nsn.gov.
San Carlos Apache Tribe of the San Carlos Reservation, Arizona | Aaron Begay, ICWA Coordinator | San Carlos Apache Tribe, P.O. Box 0, San Carlos, AZ 85550 | (928) 475-2313 | (928) 475-2342
San Juan Southern Paiute Tribe of Arizona | Carlene Yellowhair, President | 67 Northwest Maple Stree, Tuba City, AZ 86045 | (928) 212-9794 | (928) 640-1893 | j.lehijr@sanjuanpaiute-nsn.gov.
Shoshone-Paiute Tribes of the Duck Valley Reservation, Nevada | Tamara Ashley, Tribal Social Worker | P.O. Box 219, Owyhee, NV 89832 | (208) 759-3100 | (775) 757-2910 | ashley.tamara@shopai.org.
Skull Valley Band of Goshute Indians of Utah | Lillith Court, Tribal Secretary | 407 Skull Valley Road, Skull Valley, UT 84029 | (435) 831-4079 |  | lillithc@svgoshutes.com.
Summit Lake Paiute Tribe of Nevada | Randi Lone Eagle, Tribal Chairwoman/ICWA Liasion | 2255 Green Vista Drive, Suite 402, Sparks, NV 89431 | (775) 827-9670 | (775) 827-9678 | randi.loneeagle@summitlaketribe.org.
Te-Moak Tribe of Western Shoshone Indians of Nevada (Four constituent bands: Battle Mountain Band; Elko Band; South Fork Band and Wells Band) | Donna Hill, Coordinator/Acting Administrator | 37 Mountain View Drive, Battle Mountain, NV 89820 | (775) 635-2004 | (775) 635-8016 | coordinatorbmbc@hotmail.com.
Te-Moak Tribe of Western Shoshone Indians of Nevada (Four constituent bands: Battle Mountain Band; Elko Band; South Fork Band and Wells Band) | Edith Smart, Chairwoman | 21 Lee, B-13, Spring Creek, NV 89815 | (775) 340-4224 | (775) 744-4523 | Edith.smart@yahoo.com.
Te-Moak Tribe of Western Shoshone Indians of Nevada (Four constituent bands: Battle Mountain Band; Elko Band; South Fork Band and Wells Band) | Ortencia M. Puhuyaoma, MSW, Indian Child Welfare Specialist | 1745 Silver Eagle Drive, Elko, NV 89801 | (775) 738-8889 | (775) 778-3397 | icwa@elkoband.org.
Te-Moak Tribe of Western Shoshone Indians of Nevada (Four constituent bands: Battle Mountain Band; Elko Band; South Fork Band and Wells Band) | Gayla Montoya, Tribal Admin & Chairwoman | P.O. Box 809, 1707 Mountain View Drive, Elko, NV 89801 | (775) 752-3045 | (775) 752-2179 | Edith.smartt@yahoo.com.
Tohono O'odham Nation of Arizona | Hue T. Le, Deputy Attorney General | P.O. Box 830, Sells, AZ 85634 | (520) 383-3410 | (520) 383-2689 | Hue.Le@tonation-nsn.gov.
Tonto Apache Tribe of Arizona | Christine Zuber, ICWA Director | #30 Tonto Apache Reservation, Payson, AZ 85541 | (928) 474-5000 | (928) 474-9125 | czuber@tontoapache.org.
Ute Indian Tribe of the Uintah & Ouray Reservation, Utah | Tonja Willie, Assistant Case Worker | Ute Family Services, P.O. Box 925, Fort Duchesne, UT 84026 | (435) 725-2857 | (435) 722-5030 | tonjaw@utetribe.com.
Walker River Paiute Tribe of the Walker River Reservation, Nevada | Miranda J. Quintero, Social Services Director | Social Service Department, P.O. Box 146, Schurz, NV 89427 | (775) 773-2058 | (775) 773-2096 | mquintero@wrpt.org.
Washoe Tribe of Nevada & California (Carson Colony, Dresslerville Colony, Woodfords Community, Stewart Community, & Washoe Ranches) | Stacy L. Stahl—Director of Social Services, Rebecca Rojas—Child, Welfare Social Worker | 919 Highway 395 North, Gardnerville, NV 89410 | (775) 265-8691 | (775) 265-4593 | stacy.stahl@washoetribe.us.
White Mountain Apache Tribe of the Fort Apache Reservation, Arizona | Cora Hinton, CPS Supervisor/ICWA Representative | P.O. Box 1870, Whiteriver, AZ 85941 | (928) 338-4164 | (928) 338-1469 | corahinton@wmat.us.
Winnemucca Indian Colony of Nevada | Frances Winn, Tribal Administrator | 433 West Plumb Lane, Reno, NV 89509 | (775) 329-5800 | (775) 329-5819 | Admin.wic@winnemuccaindiancolony.org.
Yavapai-Apache Nation of the Camp Verde Indian Reservation, Arizona | Melissa Stevens ICWA Program Manager | 2400 West Datsi Street, Camp Verde, AZ 86322 | (928) 649-7108 | (928) 567-6485 | mstevens@yan-tribe.org.
Yavapai-Prescott Indian Tribe | Dale Sams, Administrative Assistant | 530 East Merritt, Prescott, AZ 86301 | (928) 515-7358 |  | dsams@ypit.com.
Yerington Paiute Tribe of the Yerington Colony and Campbell Ranch, Nevada | Nathaniel Landa, Human Services Director/Social Worker | 171 Campbell Lane, Yerington, NV 89447 | (775) 783-0200 | (775) 463-5929 | nlanda@ypt-nsn.gov.
Yomba Shoshone Tribe of the Yomba Reservation, Nevada | Darryl Brady, Tribal Chairman | HC61, Box 6275, Austin, NV 89310 | (775) 964-6020 | (775) 964-2443

Scott J. Davis,
Senior Advisor to the Secretary of the Interior, Exercising the delegated authority of the Assistant Secretary—Indian Affairs.

[FR Doc. 2025-13018 Filed 7-10-25; 8:45 am]

BILLING CODE 4337-15-P